DEPARTMENT OF HOMELAND SECURITY

U.S. Customs and Border Protection

19 CFR Part 102

[CBP Dec. 08-42]

Technical Corrections Relating to the Rules of Origin for Goods Imported Under the NAFTA and for Textile and Apparel Products

AGENCIES: Customs and Border Protection, Department of Homeland Security; Department of the Treasury.

ACTION: Final rule; technical corrections.

SUMMARY: This document sets forth technical corrections to part 102 of the U.S. Customs and Border Protection (CBP) regulations to reflect recent changes in the Harmonized Tariff Schedule of the United States. The affected provisions in part 102, which are based in part on specified changes in tariff classification, comprise a codified system used for determining the country of origin of goods imported under the North American Free Trade Agreement (NAFTA) and for the country of origin of textile and apparel products (other than those of Israel).

DATES: This final rule is effective on October 30, 2008.

FOR FURTHER INFORMATION CONTACT: Heather K. Pinnock, Tariff Classification and Marking Branch, Regulations and Rulings, Office of International Trade, (202) 572-8828.

SUPPLEMENTARY INFORMATION:

Background

On June 6, 1996, CBP published in the Federal Register (61 FR 28932) as T.D. 96-48, a document which adopted as a final rule, amendments to the CBP regulations establishing specific rules for determining when the country of origin of a good is one of the parties to the North American Free Trade Agreement (NAFTA) as required by Annex 311 of the NAFTA (as opposed to the rules for preference purposes in Chapter 4 and Annex 401). In order to simplify and standardize country of origin determinations for purposes of the NAFTA, the rules of origin in T.D. 96-48 set forth a codified method that uses specified changes in tariff classification (tariff shifts) and other rules to express the substantial transformation concept. Under this codified method, the substantial transformation that an imported good must undergo in order to be deemed a good of the country where the change occurred is expressed through these rules.

On July 1, 1996, shortly after the publication of T.D. 96-48, CBP also gave effect to section 334 of the Uruguay Round Agreements Act by implementing rules of origin applicable to all textile and apparel imports except for purposes of determining whether goods originate in Israel (see T.D. 95-69, published in the Federal Register on September 5, 1995 (60 FR 46188)).

The specific changes in tariff classification requirements for determining the country of origin of imported goods (other than textiles and apparel products covered by § 102.21) under the provisions of the NAFTA are set forth in § 102.20 of the CBP regulations (19 CFR 102.20) except for textiles and apparel products covered by § 102.21. Section 102.20 prescribes the tariff shift rules that are used to determine whether a good is considered a good of a NAFTA country (United States, Canada or Mexico). The rules of origin relating to trade in textile and apparel products, other than those that are products of Israel, are found in § 102.21.

In addition, we note that CBP published in the Federal Register (73 FR 43385) on July 25, 2008, a notice of proposed rulemaking in which it proposed to amend the CBP regulations to establish uniform rules governing CBP determinations of the country of origin of imported merchandise. Specifically, CBP proposed that the rules in 19 CFR part 102 be applicable for all purposes for which “product of” or “country of origin” criterion is prescribed under customs and related laws, the navigation laws of the United States, and the CBP regulations, except for the purpose of determining whether a good other than a textile or apparel good is entitled to preferential treatment under the United States' free trade agreements with Israel and Jordan, or unless otherwise specified, or as otherwise provided for by statute. The technical corrections to the tariff shift rules set forth in this document will enable interested parties to properly evaluate the impact, if any, of the proposed rulemaking on the country of origin of their goods.

Need for Correction

Pursuant to section 1205 of the Omnibus Trade and Competitiveness Act of 1988 (codified at 19 U.S.C. 3005), the International Trade Commission (ITC) is required to keep the HTSUS under continuous review and prepare investigations proposing modifications to the HTSUS to the President. In April 2006, the ITC issued Investigation No. 1205-6, Proposed Modifications to the Harmonized Tariff Schedule of the United States, Publication No. 3851. The modifications proposed in the report were effective on February 3, 2007, pursuant to Presidential Proclamation 8097 which was published in the Federal Register on January 4, 2007 (72 FR 453).

As a result of the 2007 modifications to the HTSUS, certain tariff provisions have been added or removed, and certain goods have been transferred, for tariff classification purposes, to different or newly-created tariff provisions. The changes to the HTSUS involve product coverage and/or numbering of certain headings and subheadings and are not intended to have any other substantive effect. Accordingly, this document makes technical corrections to §§ 102.20 and 102.21 in order for the regulations to conform the tariff shift rules to the current version of the HTSUS. In addition, this document amends §§ 102.20(a) and 102.21(a), (b), (c), and (d) by removing the word “shall” each place it appears and adding, in its place, the word “will” or “must” as appropriate.

The examples set forth below illustrate the need for the technical corrections to §§ 102.20 and 102.21 described above.

Example 1: Pursuant to the existing terms of § 102.20(n), the tariff shift rule for heading 7416, HTSUS, permits, in relevant part, a tariff shift to this heading “from any other heading.” Prior to the 2007 amendments to the HTSUS, copper springs were classified in subheading 7416.00, HTSUS, and therefore were subject to the above tariff shift rule. This rule is satisfied when copper springs of heading 7416, HTSUS, are processed from other articles of copper from any other heading. Under the 2007 amendments to the HTSUS, however, heading 7416 was deleted and copper springs were moved from subheading 7416.00 to subheading 7419.99, HTSUS. As a result, copper springs(classified in subheading 7419.99, HTSUS) which are processed from other articles of copper of subheading 7419.99 would not presently satisfy the tariff shift rule set forth above. In order to maintain the original result of the tariff shift rule for copper springs that had been classified within heading 7416, HTSUS, the tariff shift rule in § 102.20(n) must be amended to provide for a change to copper springs of subheading 7419.99, HTSUS, from any other subheading, including from any other good of subheading 7419.99, HTSUS.

Example 2: Under the 2007 amendments to the HTSUS, a new subheading was created at 2910.40, HTSUS, for a product referred to as “dieldrin (ISO, INN).” Prior to the 2007 amendments, this product was classified in the basket “other” provision under subheading 2910.90, HTSUS. As new subheading 2910.40, HTSUS, is not included in the rules set forth in § 102.20(f), it is not possible to determine the origin of goods classifiable under this provision using the current regulations. Accordingly, § 102.20(f) must be amended in order to add subheading 2910.40, HTSUS, and the applicable tariff shift rule must also be amended in order to provide for the new subheading. It should be noted that these technical corrections to § 102.20(f) will produce the same result as when dieldrin (ISO, INN) was classified under subheading 2910.90, HTSUS, in the 2006 HTSUS.

Example 3: Under current § 102.21(e), there is a rule for subheadings 6209.10.0000 through 6209.20.5035, HTSUS. Under the 2007 amendments to the HTSUS, subheading 6209.10, HTSUS, which covers babies' garments and clothing accessories of wool or fine animal hair, was deleted, with the goods moving to subheading 6209.90. As a result, the tariff shift rule for heading 6209.10.0000-6209.20.5035, HTSUS, has been renumbered to reflect that subheading 6209.10, HTSUS, was deleted, and reflect the new range of tariff subheadings. As the rule for subheadings 6209.20.5045 through 6209.90.9000, HTSUS, is the same as the rule for subheading 6209.10, HTSUS, no change in the rule is necessary.

Inapplicability of Notice and Delayed Effective Date

Pursuant to 5 U.S.C. 553(b)(B) and (d)(3), CBP has determined that it would be impracticable and contrary to the public interest to delay publication of this rule in final form pending an opportunity for public comment and that there is good cause for this final rule to become effective immediately upon publication. The technical corrections contained in this document merely conform the tariff shift rules in the regulations to the current HTSUS and will facilitate trade by ensuring that country of origin determinations made using the regulations are consistent with the HTSUS.

Regulatory Flexibility Act

Because this document is not subject to the notice and public procedure requirements of 5 U.S.C. 553, it is not subject to the provisions of the Regulatory Flexibility Act (5 U.S.C. 601 et seq.).

Executive Order 12866

These amendments do not meet the criteria for a “significant regulatory action” as specified in Executive Order 12866.

Signing Authority

While the subject matter of this document pertains to the authority of the Secretary of the Treasury to approve regulations relating to certain revenue functions (see 19 CFR Part 0), CBP retains authority pursuant to Treasury Directive 28-01 to sign a document making nonsubstantive technical corrections to a previously issued regulation. For this reason, the CBP Commissioner is the proper official to sign this document.

List of Subjects in 19 CFR Part 102

Customs duties and inspections, Imports, Reporting and recordkeeping requirements, Rules of origin, Trade agreements.

Amendments to the CBP Regulations

For the reasons set forth above, part 102 of title 19 of the Code of Federal Regulations (19 CFR part 102) is amended as set forth below:

PART 102—RULES OF ORIGIN

1. The authority citation for part 102 continues to read as follows:

Authority: 19 U.S.C. 66, 1202 (General Note 3(i), Harmonized Tariff Schedule of the United States), 1624, 3314, 3592.

2. In § 102.20:

a. The introductory text is amended by removing the word “shall” and adding, in its place, the word “will”;

b. The table is further amended by removing the entries for: “0210.90”, “2811.23-2811.29”, “2826.11-2833.19”, “2833.22-2833.26”, “2836.10”, “2836.70”, “2838”, “2839.20-2839.90”, “2841.10-2841.30”, “2850-2851”, “2903.11-2903.30”, “2906.14”, “2912.11-2912.13”, “2915.11-2915.35”, “2918.90”, “2920.10-2926.90”, “2936.10-2936.29”, “3001.10-3001.90”, “3006.80”, “3102.70”, “3103.10-3103.20”, “3104.10-3104.30”, “3301.11-3301.90”, “3404.10-3404.20”, “3808.10”, “3808.20”, “3808.30”, “3808.40”, “3808.90”, “3824.20”, “4601.20-4601.99”, “4815”, “4823.12”, “4823.19”, “4823.60-4823.70”, “6811.10”, “6811.20”, “6811.30”, “6811.90”, “6812.50”, “6812.60-6812.70”, “6812.90”, “7012-7018”, “7321.11-7321.83”, “7801-7803”, “7805-7806”, “7901-7906”, “8002-8004”, “8005”, “8006-8007”, “8101.10-8101.95”, “8442.10-8442.30”, “8443.11-8443.60”, “8443.90”, “8456.10-8456.99”, “8469.11-8469.12”, “8469.20-8469.30”, “8485”, “8505.11-8505.30”, “8509.10-8509.80”, “8517.11-8517.80”, “8517.90”, “8519.10-8519.40”, “8520.10-8520.20”, “8520.32-8520.33”, “8520.39-8520.90”, “8524”, “8525.10-8525.20”, “8525.30-8525.40”, “8527.19-8527.90”, “8528.12-8528.30”, “8543.11-8543.19”, “8543.40-8543.89”, “8708.31”, “8708.39”, “8708.60”, “9009.11-9009.30”, “9009.91-9009.99”, “9010.41-9010.50”, “9030.10-9030.40”, “9030.82-9030.83”, “9031.10-9031.30”, “9403.10-9403.80”, “9501”, “9502.10”, “9502.99”, “9503.10-9503.30”, “9503.41-9503.49”, “9503.50-9503.60”, “9503.70-9503.90”, “9614.20”, and “9614.90”;

c. The table is further amended by adding, in numerical order, entries for:“0210.91-0210.99”, “2811.29”, “2826.12-2826.19”, “2833.22-2833.25”, “2839.90”, “2841.30”, “2850”, “2852”, “2853”, “2903.11-2903.39”, “2912.11-2912.12”, “2915.11-2915.33”, “2915.36”, “2918.91-2918.99”, “2920.11-2926.90”, “2936.21-2936.29”, “3001.20-3001.90”, “3006.91”, “3006.92”, “3103.10”, “3104.20-3104.30”, “3301.12-3301.90”, “3404.20”, “3808.50”, “3808.91”, “3808.92”, “3808.93”, “3808.94”, “3808.99”, “4601.21-4601.99”, “4823.61-4823.70”, “6811.40”, “6811.81”, “6811.82”, “6811.83”, “6811.89”, “6812.80”, “6812.91”, “6812.92-6812.93”, “6812.99”, “7013-7018”, “7321.11-7321.89”, “7801-7802”, “7806”, “7901-7905”, “8002-8003”, “8007”, “8101.10-8101.94”, “8442.30”, “8443.11-8443.39”, “8443.91”, “8456.10-8456.90”, “8469.00”, “8486.10-8486.40”, “8486.90”, “8487”, “8505.11-8505.20”, “8505.90”, “8508.11-8508.60”, “8508.70”, “8509.40-8509.80”, “8517.11-8517.69”, “8517.70”, “8519.20-8519.30”, “8519.50”, “8519.81”, “8519.89”, “8525.50-8525.60”, “8525.80”, “8527.19-8527.99”, “8528.41”, “8528.49”, “8528.51”, “8528.59”, “8528.61”, “8528.69-8528.73”, “8543.10”, “8543.70”, “8708.30”, “8708.50”, “8708.95”, “9010.50”, “9030.10”, “9030.20”, “9030.31”, “9030.32”, “9030.33”, “9030.39”, “9030.40”, “9030.82-9030.84”, “9031.10-9031.20”, “9403.10-9403.89”, “9503”, and “9614.00”;

d. The table is further amended by revising the entries in the “Tariff shift and/or other requirements” column adjacent to the “HTSUS” column listing for: “2707.10-2707.99”, “2811.29”, “2824.10-2824.90”, “2826.12-2826.19”, “2833.22-2833.25”, “2833.29”, “2835.29-2835.39”, “2836.99”, “2839.90”, “2841.30”, “2841.50”, “2841.90”, “2842.90”, “2850”, “2852”, “2853”, “2903.11”, “2903.39”, “2903.51-2904.90”, “2905.11-2905.19”, “2906.19”, “2907.12-2907.22”, “2909.11-2909.49”, “2910.10-2910.90”, “2912.11-2912.12”, “2912.19-2912.49”, “2915.11-2915.33”, “2915.36”, “2915.39”, “2917.11-2917.39”, “2918.11-2918.22”, “2918.91-2918.99”, “2920.11-2926.90”, “2929.10-2930.90”, “2936.21-2936.29”, “2936.90”, “3001.20-3001.90”, “3002.10-3002.90”, “3003.10”, “3003.20”, “3003.31”, “3003.39”, “3003.40”, “3003.90”, “3004.10”, “3004.20”, “3004.31”, “3004.32”, “3004.39”, “3004.40”, “3004.50”, “3004.90”, “3005.10”, “3006.10”, “3006.20-3006.60”, “3006.70”, “3006.91”, “3006.92”, “3102.90”, “3103.10”, “3103.90”, “3104.20-3104.30”, “3104.90”, “3206.20-3209.90”, “3301.12-3301.90”, “3404.20”, “3404.90”, “3808.50”, “3808.91”, “3808.92”, “3808.93”, “3808.94”, “3808.99”, “3824.71-3824.90”, “3920.10-3921.90”, “4203-4206”, “4412”, “4413-4421”, “4601.21-4601.99”, “4823.61-4823.70”, “4823.90”, “6811.40”, “6811.81”, “6811.82”, “6811.83”, “6811.89”, “6812.80”, “6812.91”, “6812.92-6812.93”, “6812.99”, “7013-7018”, “7020”, “7321.11-7321.89”, “7411-7418”, “7419.10-7419.99”, “7801-7802”, “7806”, “7901-7905”, “7907”, “8002-8003”, “8007”, “8101.10-8101.94”, “8101.96”, “8101.99”, “8103.20-8113.00”, “8418.10-8418.91”, “8425.11-8430.69”, “8442.30”, “8443.11-8443.39”, “8443.91”, “8443.99”, “8456.10-8456.90”, “8469.00”, “8470.10-8471.50”, “8471.60-8472.90”, “8479.10-8479.89”, “8486.10-8486.40”, “8486.90”, “8487”, “8505.11-8505.20”, “8505.90”, “8508.11-8508.60”, “8508.70”, “8509.40-8509.80”, “8517.11-8517.69”, “8517.70”, “8519.20-8519.30”, “8519.50”, “8519.81”, “8519.89”, “8523”, “8525.50-8525.60”, “8525.80”, “8527.19-8527.99”, “8528.41”, “8528.49”, “8528.51”, “8528.59”, “8528.61”, “8528.69-8528.73”, “8536.10-8536.90”, “8541-8542”, “8543.10”, “8543.70”, “8543.90”, “8544.11-8544.70”, “8708.29”, “8708.30”, “8708.40”, “8708.50”, “8708.80”, “8708.91”, “8708.92”, “8708.94”, “8708.95”, “8708.99”, “9006.10-9006.69”, “9010.50”, “9010.90”, “9027.10-9027.90”, “9030.10”, “9030.20”, “9030.31”, “9030.32”, “9030.33”, “9030.39”, “9030.40”, “9030.82-9030.84”, “9030.89”, “9030.90”, “9031.10-9031.20”, “9031.41-9031.49”, “9201-9208”, “9401.10-9401.80”, “9402”, “9403.10-9403.89”, “9503”, and “9614.00”.

The additions and revisions read as follows:

§ 102.20 Specific rules by tariff classification.

* * * * *

HTSUS | Tariff shift and/or other requirements
* * * * * * *
0210.91-0210.99 | A change to subheading 0210.91 through 0210.99 from any other chapter; or A change to edible meals and flours of subheading 0210.91 through 0210.99 from any product other than edible meals and flours of Chapter 2.
* * * * * * *
2707.10-2707.99 | A change to subheading 2707.10 through 2707.99 from any other heading; or A change to phenols of subheading 2707.99 from any other subheading or from any other good of subheading 2707.99, provided that the good resulting from such change is the product of a chemical reaction; or
| A change to any other good of subheading 2707.99 from phenols of subheading 2707.99 or from any other subheading, provided that the good resulting from such change is the product of a chemical reaction; or
| A change to subheading 2707.10 through 2707.99 from any other subheading, including any subheading within that group, provided that the good resulting from such change is the product of a chemical reaction.
* * * * * * *
2811.29 | A change to sulphur dioxide of subheading 2811.29 from any other good of subheading 2811.29 or from any other subheading; or
| A change to any other good of subheading 2811.29 from sulphur dioxide of subheading 2811.29 or from any other subheading.
* * * * * * *
2824.10-2824.90 | A change to red lead or to orange lead of subheading 2824.90 from any other good of subheading 2824.90 or from any other subheading, except from heading 2607; or
| A change to any other good of subheading 2824.90 from red lead or from orange lead of subheading 2824.90 or from any other subheading, except from heading 2607; or
| A change to subheading 2824.10 through 2924.90 from any other subheading, including another subheading within that group, except from heading 2607.
* * * * * * *
2826.12-2833.19 | A change to fluorides of ammonium or of sodium of subheading 2826.19 from any other good of subheading 2826.19 or from any other subheading; or
| A change to any other good of subheading 2826.19 from fluorides of ammonium or of sodium of subheading 2826.19 or from any other subheading; or
| A change to fluorosilicates of sodium or of potassium of subheading 2826.90 from any other good of subheading 2826.90 or from any other subheading; or
| A change to any other good of subheading 2826.90 from fluorosilicates of sodium or of potassium of subheading 2826.90 or from any other subheading; or
| A change to chlorides of iron of subheading 2827.39 from any other good of subheading 2827.39 or from any other subheading; or
| A change to chlorides of cobalt of subheading 2827.39 from any other good of subheading 2827.39 or from any other subheading; or
| A change to chlorides of zinc of subheading 2827.39 from any other good of subheading 2827.39 or from any other subheading; or
| A change to any other good of subheading 2827.39 from chlorides of iron, of cobalt, or of zinc of subheading 2827.39 or from any other subheading; or
| A change to zinc sulphide of subheading 2830.90 from any other good of subheading 2830.90 or from any other subheading; or
| A change to cadmium sulphide of subheading 2830.90 from any other good of subheading 2830.90 or from any other subheading; or
| A change to any other good of subheading 2830.90 from zinc sulphide or cadmium sulphide of subheading 2830.90 or from any other subheading; or
| A change to subheading 2826.12 through 2833.19 from any other subheading, including another subheading within that group.
* * * * * * *
2833.22-2833.25 | A change to subheading 2833.22 through 2833.25 from any other subheading, including another subheading within that group.
* * * * * * *
2833.29 | A change to chromium sulphate of subheading 2833.29 from any other good of subheading 2833.29 or from any other subheading; or
| A change to zinc sulphate of subheading 2833.29 from any other good of subheading 2833.29 or from any other subheading; or
| A change to any other good of subheading 2833.29 from chromium sulphate or zinc sulphate of subheading 2833.29 or from any other subheading, except from heading 2520.
* * * * * * *
2835.29-2835.39 | A change to phosphates of trisodium of subheading 2835.29 from any other good of subheading 2835.29 or from any other subheading; or
| A change to any other good of subheading 2835.29 from phosphates of trisodium of subheading 2835.29 or from any other subheading; or
| A change to subheading 2835.29 through 2835.39 from any other subheading, including another subheading within that group.
* * * * * * *
2836.99 | A change to bismuth carbonate of subheading 2836.99 from commercial ammonium carbonate or other ammonium carbonates or from lead carbonates of subheading 2836.99 or from any other subheading, except from subheading 2617.90; or
| A change to commercial ammonium carbonate or to other ammonium carbonates of subheading 2836.99 from any other good of subheading 2836.99 or from any other subheading; or
| A change to lead carbonates of subheading 2836.99 from any other good of subheading 2836.99 or from any other subheading, except from heading 2607; or
| A change to any other good of subheading 2836.99 from commercial ammonium carbonate or other ammonium carbonates or from lead carbonates of subheading 2836.99 or from any other subheading, provided that the good classified in subheading 2836.99 is the product of a “chemical reaction” as defined in Note 1.
* * * * * * *
2839.90 | A change to silicates of potassium of subheading 2839.90 from any other good of subheading 2839.90 or from any other subheading; or
| A change to any other good of subheading 2839.90 from silicates of potassium of subheading 2839.90 or from any other subheading.
* * * * * * *
2841.30 | A change to subheading 2841.30 from any other subheading.
2841.50 | A change to chromates of zinc or of lead from any other good of subheading 2841.50 or from any other subheading; or
| A change to any other good of subheading 2841.50 from chromates of zinc or of lead of subheading 2841.50 or from any other subheading, except from heading 2610.
* * * * * * *
2841.90 | A change to aluminates from any other good of subheading 2841.90 or from any other subheading; or
| A change to any other good of subheading 2841.90 from aluminates of subheading 2841.90 or from any other subheading, provided that the good classified in subheading 2841.90 is the product of a “chemical reaction” as defined in Note 1.
* * * * * * *
2842.90 | A change to fulminates, cyanates and thiocyanates of subheading 2842.90 from any other good of subheading 2842.90 or from any other subheading; or
| A change to any other good of subheading 2842.90 from fulminates, cyanates and thiocyanates of subheading 2842.90 or from any other subheading, provided that the good classified in subheading 2842.90 is the product of a “chemical reaction” as defined in Note 1.
* * * * * * *
2850 | A change to heading 2850 from any other heading.
2852 | A change to other metal oxides, hydroxides or peroxides of heading 2852 from any other good of heading 2852 or from any other heading, provided that the good is the product of a “chemical reaction”, as defined in Note 1, except from subheading 2825.90; or
| A change to other fluorides of heading 2852 from any other good of heading 2852 or from any other heading, except from subheading 2826.19; or
| A change to other chlorides of heading 2852 from any other good of heading 2852 or from any other heading, except from subheading 2827.39; or
| A change to other bromides or to bromide oxides from any other good of heading 2852 or from any other heading, except from subheading 2827.59; or
| A change to iodides or to iodide oxides of heading 2852 from any other good of heading 2852 or from any other heading, except from subheading 2827.60; or
| A change to other chlorates of heading 2852 from any other good of heading 2852 or from any other heading, except from subheading 2829.19; or
| A change to other perchlorates, bromotes, perbromates, iodates or periodates of heading 2852 from any other good of heading 2852 or from any other heading, except from subheading 2829.90; or
| A change to other sulphides or polysulphides, whether or not chemically defined, of heading 2852 from any other good of heading 2852 or from any other heading, except from subheading 2830.90; or
| A change to other sulfates of heading 2852 from any other good of heading 2852 or from any other heading, except from heading 2520 or from subheading 2833.29; or
| A change to other nitrates of heading 2852 from any other good of heading 2852 or from any other heading, except from subheading 2834.29; or
| A change to other phosphates from any other good of heading 2852 or from any other heading, except from subheading 2835.29; or
| A change to other cyanides or to cyanide oxides of heading 2852 from any other good of heading 2852 or from any other heading, except from subheading 2837.19; or
| A change to complex cyanides of heading 2852 from any other good of heading 2852 or from any other heading, except from subheading 2837.20; or
| A change to fulminates, cyanates or thiocyanates of heading 2852 from any other good of heading 2852 or from any other heading; or
| A change to other chromates, dichromates or peroxochromates of heading 2852 from any other good of heading 2852 or any other heading, except from heading 2610, or from subheading 2841.50; or
| A change to other salts of inorganic acids or to peroxoacids, other than azides, of heading 2852 from any other good of heading 2852 or from any other heading, provided that the good classified in heading 2852 is the product of a “chemical reaction” as defined in Note 1, except from subheading 2842.90; or
| A change to other silver compounds of heading 2852 from any other good of heading 2852 or from any other heading, except from subheading 2843.29; or
| A change to derivatives containing only sulpho groups, their salts and esters from any other good of heading 2852 or from any other heading, except from heading 2908; or
| A change to palmitic acid, stearic acid, their salts or their esters from any other good of heading 2852 or from any other heading, except from subheading 2915.70; or
| A change to oleic, linolenic or linolenic acids, their salts or their esters from any other good of heading 2852 or from any other heading, except from subheading 2916.15; or
| A change to benzoic acid, its salts or its esters from any other good of heading 2852 or from any other heading, except from subheading 3301.90 or subheading 2916.31; or
| A change to lactic acid, its salts or its esters from any other good of heading 2852 or from any other heading, except 2918.11; or
| A change to other organo-inorganic compounds of heading 2852 from any other good of heading 2852 or from any other heading, except from heading 2931.
2853 | A change to heading 2853 from any other heading.
* * * * * * *
2903.11-2903.39 | A change to subheading 2903.31 through 2903.39 from any subheading outside that group; or
| A change to any other good of subheading 2903.11 through 2903.39 from any other subheading, including another subheading within that group.
* * * * * * *
2903.51-2904.90 | A change to aldrin (ISO), chlordane (ISO) or heptachlor (ISO) of subheading 2903.52 from any other subheading, except from subheading 2903.59; or
| A change to any other good of subheading 2903.59 from any other subheading, except from subheading 2903.52; or
| A change to any other good of subheading 2903.51 through 2904.90 from any other subheading, including another subheading within that group.
2905.11-2905.19 | A change to pentanol (amyl alcohol) and isomers thereof of subheading 2905.19 from any other good of subheading 2905.19 or from any other subheading; or
| A change to any other good of subheading 2905.19 from pentanol (amyl alcohol) and isomers thereof of subheading 2905.19 or from any other subheading; or
| A change to any other good of subheading 2905.11 through 2905.19 from any other subheading, including another subheading within that group.
* * * * * * *
2906.19 | A change to terpineols of subheading 2906.19 from any other good of subheading 2906.19 or from any other subheading, except from heading 3805; or
| A change to any other good of subheading 2906.19 from terpineols of subheading 2906.19 or from any other subheading, except from subheading 3301.90 or 3805.90.
* * * * * * *
2907.12-2907.22 | A change to xylenols or their salts of subheading 2907.19 from any other good of subheading 2907.19 or from any other subheading, except from subheading 2707.99; or
| A change to any other good of subheading 2907.19 from xylenols and their salts of subheading 2907.19 or from any other subheading, except from subheading 2707.99; or
| A change to any other good of subheading 2907.12 through 2907.22 from any other subheading, including another subheading within that group, except from subheading 2707.99.
* * * * * * *
2909.11-2909.49 | A change to monomethyl ethers of ethylene glycol or of diethylene glycol of subheading 2909.44 through 2909.49 from any other good of subheading 2909.44 through 2909.49 or from any other subheading; or
| A change to any other good of subheading 2909.44 through 2909.49 from monomethyl ethers of ethylene glycol or of diethylene glycol of subheading 2909.44 through 2909.49 or from any other subheading; or
| A change to any other good of subheading 2909.11 through 2909.49 from any other subheading, including another subheading within than group.
* * * * * * *
2910.10-2910.90 | A change to dieldrin (ISO, INN) of subheading 2910.40 from any other subheading, except from subheading 2910.90; or
| A change to subheading 2910.90 from any other subheading, except from subheading 2910.40; or
| A change to any other good of subheading 2910.10 through 2910.90 from any other subheading, including another subheading within that group.
* * * * * * *
2912.11-2912.12 | A change to subheading 2912.11 through 2912.12 from any other subheading, including another subheading within that group.
2912.19-2912.49 | A change to butanal (butyraldehyde, normal isomer) of subheading 2912.19 from any other good of subheading 2912.19 or from any other subheading; or
| A change to any other good of subheading 2912.19 from butanal (butyraldehyde, normal isomer) of subheading 2912.19 or from any other subheading, except from subheading 3301.90; or
| A change to any other good of subheading 2912.19 through 2912.49 from any other subheading, including another subheading within that group, except from subheading 3301.90.
* * * * * * *
2915.11-2915.33 | A change to sodium acetate of subheading 2915.29 from any other good of subheading 2915.29 or from any other subheading; or
| A change to cobalt acetates of subheading 2915.29 from any other good of subheading 2915.29 or from any other subheading; or
| A change to any other good of subheading 2915.29 from sodium acetate or cobalt acetates of subheading 2915.29 or from any other subheading; or
| A change to any other good of subheading 2915.11 through 2915.33 from any other subheading, including another subheading within that group.
2915.36 | A change to subheading 2915.36 from any other subheading, except from subheading 2915.90.
2915.39 | A change to isobutyl acetate of subheading 2915.39 from any other good of subheading 2915.39 or from any other subheading; or
| A change to 2-Ethoxyethyl acetate of subheading 2915.39 from any other good of subheading 2915.39 or from any other subheading; or
| A change to any other good of subheading 2915.39 from isobutyl acetate or 2-Ethoxyethyl acetate of subheading 2915.39 or from any other subheading, except from subheading 3301.90.
* * * * * * *
2917.11-2917.39 | A change to dibutyl orthophthalates of subheading 2917.34 from any other good of subheading 2917.34 or from any other subheading; or
| A change to any other good of subheading 2917.34 from dibutyl orthophthalates of subheading 2917.34 or from any other subheading; or
| A change to any other good of subheading 2917.11 through 2917.39 from any other subheading, including another subheading within that group.
2918.11-2918.22 | A change to subheading 2918.18 from any other subheading, except from subheading 2918.19; or
| A change to any other good of subheading 2918.19 from any other subheading, except from subheading 2918.18; or
| A change to subheading 2918.11 through 2918.22 from any other subheading, including another subheading within that group.
* * * * * * *
2918.91-2918.99 | A change to subheading 2918.91 through 2918.99 from any other subheading outside that group, except from subheading 3301.90.
* * * * * * *
2920.11-2926.90 | A change to subheading 2920.11 through 2920.19 from any subheading outside that group; or
| A change to diethylamine and its salts of subheading 2921.19 from any other good of subheading 2921.19 or any other subheading; or
| A change to any other good of subheading 2921.19 from diethylamine and its salts of subheading 2921.19 or from any other subheading; or
| A change to anisidines, dianisidines, phenetidines, and their salts of subheading 2922.29 from any other good of subheading 2922.29 or any other subheading; or
| A change to any other good of subheading 2922.29 from anisidines, dianisidines, phenetidines, and their salts of subheading 2922.29 or from any other subheading; or
| A change to subheading 2924.12 from any other subheading, except from subheading 2924.19; or
| A change to subheading 2924.19 from any other subheading, except from subheading 2924.12; or
| A change to subheading 2925.21 through 2925.29 from any subheading outside that group; or
| A change to any other good of subheading 2920.11 through 2926.90 from any other subheading, including another subheading within that group.
* * * * * * *
2929.10-2930.90 | A change to subheading 2930.50 from any other subheading, except from subheading 2930.90; or
| A change to dithiocarbonates (xanthates) of subheading 2930.90 from any other good of subheading 2930.90 or from any other subheading;
| A change to any other good of subheading 2930.90 from dithiocarbonates (xanthates) of subheading 2930.90 or from any other subheading, except from subheading 2930.50; or
| A change to any other good of subheading 2929.10 through 2930.90 from any other subheading, including another subheading within that group.
* * * * * * *
2936.21-2936.29 | A change to subheading 2936.21 through 2936.29 from any other subheading, including another subheading within that group.
2936.90 | A change to unmixed provitamins of subheading 2936.90 from any other good of subheading 2936.90 or from any other subheading; or
| A change to any other good of subheading 2936.90 from any other subheading, except from subheading 2936.21 through 2936.29.
* * * * * * *
3001.20-3001.90 | A change to glands and other organs, dried, whether or not powdered, of subheading 3001.90 from any other good of subheading 3001.90 or from any other subheading, except from subheading 0206.10 through 0208.90 or 0305.20, heading 0504 or 0510, or subheading 0511.99 if the change from these provisions is not to a gland or other organ powder classified in subheading 3001.90, and except a change from subheading 3006.92; or
| A change to any other good of subheading 3001.90 from glands and other organs, dried, whether or not powdered, of subheading 3001.90 or from any other subheading, except from subheading 3006.92; or
| A change to any other good of subheading 3001.20 through 3001.90 from any other subheading, including another subheading within that group, except a change from subheading 3006.92.
3002.10-3002.90 | A change to subheading 3002.10 through 3002.90 from any other subheading including another subheading within that group, except a change from subheading 3006.92.
3003.10 | A change to subheading 3003.10 from any other subheading, except from subheading 2941.10, 2941.20, 3003.20, or 3006.92.
3003.20 | A change to subheading 3003.20 from any other subheading, except from subheading 2941.30 through 2941.90, or 3006.92.
3003.31 | A change to subheading 3003.31 from any other subheading, except from subheading 2937.12 or 3006.92.
3003.39 | A change to subheading 3003.39 from any other subheading, except from hormones or their derivatives classified in Chapter 29, or except from subheading 3006.92.
3003.40 | A change to subheading 3003.40 from any other subheading, except from heading 1211, subheading 1302.11, 1302.19, 1302.20, 1302.39, or 3006.92, or alkaloids or derivatives thereof classified in Chapter 29.
3003.90 | A change to subheading 3003.90 from any other subheading, provided that the domestic content of the therapeutic or prophylactic component is no less than 40 percent by weight of the total therapeutic or prophylactic content, or except from subheading 3006.92.
3004.10 | A change to subheading 3004.10 from any other subheading, except from subheading 2941.10, 2941.20, 3003.10, 3003.20, or 3006.92.
3004.20 | A change to subheading 3004.20 from any other subheading, except from subheading 2941.30 through 2941.90, 3003.20, or 3006.92.
3004.31 | A change to subheading 3004.31 from any other subheading, except from subheading 2937.12, 3003.31, 3003.39, or 3006.92.
3004.32 | A change to subheading 3004.32 from any other subheading, except from subheading 3003.39 or 3006.92, or from adrenal corticosteroid hormones classified in Chapter 29.
3004.39 | A change to subheading 3004.39 from any other subheading, except from subheading 3003.39 or 3006.92, or from hormones or derivatives thereof classified in Chapter 29.
3004.40 | A change to subheading 3004.40 from any other subheading, except from heading 1211, subheading 1302.11, 1302.19, 1302.20, 1302.39, 3003.40, or 3006.92, or alkaloids or derivatives thereof classified in Chapter 29.
3004.50 | A change to subheading 3004.50 from any other subheading, except from subheading 3003.90 or 3006.92, or vitamins classified in Chapter 29 or products classified in heading 2936.
3004.90 | A change to subheading 3004.90 from any other subheading, except from subheading 3003.90 or 3006.92, and provided that the domestic content of the therapeutic or prophylactic component is no less than 40 percent by weight of the total therapeutic or prophylactic content.
3005.10 | A change to subheading 3005.10 from any other subheading, except from subheading 3006.92 or 3825.30.
3006.10 | A change to subheading 3006.10 from any other subheading, except from subheading 1212.20, 3006.92, 3825.30, or from articles of catgut of heading 4206.
3006.20-3006.60 | A change to subheading 3006.20 through 3006.60 from any other subheading, including another subheading within that group, except from subheading 3006.92 or 3825.30.
3006.70 | A change to subheading 3006.70 from any other subheading, except from subheading 3006.92 or 3825.30, and provided no more than 60 percent by weight of the good classified in this subheading is attributable to one substance or compound.
3006.91 | A change to subheading 3006.91 from any other subheading, except from heading 3926.
3006.92 | A change to subheading 3006.92 from any other chapter.
* * * * * * *
3102.90 | A change to calcium cyanamide of subheading 3102.90 from any other subheading or from any other good of subheading 3102.90; or
| A change to any other good of subheading 3102.90 from calcium cyanamide of subheading 3102.90 or from any other subheading, except from subheading 3102.10 through 3102.80.
3103.10 | A change to subheading 3103.10 from any other subheading.
3103.90 | A change to basic slag of subheading 3103.90 from any other good of subheading 3103.90 or from any other subheading; or
| A change to any other good of subheading 3103.90 from basic slag of subheading 3103.90 or from any other subheading, except from subheading 3103.10.
3104.20-3104.30 | A change to subheading 3104.20 through 3104.30 from any other subheading, including another subheading within that group.
3104.90 | A change to carnallite, sylvite or other crude natural potassium salts of subheading 3104.90 from any other good of subheading 3104.90 or from any other subheading; or
| A change to any other good of subheading 3104.90 from any other subheading, except from subheading 3104.20 through 3104.30.
* * * * * * *
3206.20-3209.90 | A change to pigments and preparations based on cadmium compounds of subheading 3206.49 from any other good of subheading 3206.49 or from any other subheading; or
| A change to pigments and preparations based on hexacyanoferrates (ferrocyanides and ferricyanides) from any other good of subheading 3206.49 or from any other subheading; or
| A change to any other good of subheading 3206.49 from pigments and preparations based on cadmium compounds or hexacyanoferrates (ferrocyanides and ferricyanides) of subheading 3206.49 or from any other subheading; or
| A change to any other good of subheading 3206.20 through 3209.90 from any other subheading, including another subheading within that group.
* * * * * * *
3301.12-3301.90 | A change to oil of bergamot of subheading 3301.19 from any other good of subheading 3301.19 or from any other subheading; or
| A change to oil of lime of subheading 3301.19 from any other good of subheading 3301.19 or from any other subheading; or
| A change to any other good of subheading 3301.19 from oil of bergamot or of lime of subheading 3301.19 or from any other subheading; or
| A change to oil of geranium of subheading 3301.29 from any other good of subheading 3301.29 or from any other subheading; or
| A change to oil of jasmin of subheading 3301.29 from any other good of subheading 3301.29 or from any other subheading; or
| A change to oil of lavender or of lavandin of subheading 3301.29 from any other good of subheading 3301.29 or from any other subheading; or
| A change to oil of vetiver of subheading 3301.29 from any other good of subheading 3301.29 or from any other subheading; or
| A change to any other good of subheading 3301.29 from oil of geranium, jasmine, lavender or lavandin, or of vetiver of subheading 3301.29 or from any other subheading; or
| A change to any other good of subheading 3301.12 through 3301.90 from any other subheading, including another subheading within that group.
* * * * * * *
3404.20 | A change to subheading 3404.20 from any other subheading.
3404.90 | A change to artificial waxes and prepared waxes of chemically modified lignite of subheading 3404.90 from any other good of subheading 3404.90 or from any other subheading; or
| A change to any other good of subheading 3404.90 from artificial waxes and prepared waxes of chemically modified lignite of subheading 3404.90 or from any other subheading, except from heading 1521 or subheading 2712.20 or 2712.90.
* * * * * * *
3808.50 | A change to insecticides from any other subheading, except from vegetable saps or extracts of pyrethrum or of the roots of plants containing rotenone of subheading 1302.19 or from subheading 3808.91 or from any insecticide classified in Chapter 28 or 29; or
| A change to fungicides from any other subheading, except from fungicides classified in Chapter 28 or 29 or from subheading 3808.92; or
| A change to herbicides, anti-sprouting products and plant-growth regulators from any other subheading, except from herbicides, anti-sprouting products and plant-growth regulators classified in Chapter 28 or 29 or from subheading 3808.93; or
| A change to a mixture of herbicides, anti-sprouting products and plant-growth regulators from any other subheading, provided that the mixture is made from two or more active ingredients and a domestic active ingredient constitutes no less than 40 percent by weight of the total active ingredients; or
| A change to disinfectants from any other subheading, except from subheading 3808.94; or
| A change to any other good of subheading 3808.50 from any other good of subheading 3808.50 or from any other subheading, except from rodenticides and other pesticides classified in Chapter 28 or 29 or from subheading 3808.99; or
| A change to a mixture of subheading 3808.50 from any other subheading, provided that the mixture is made from two or more active ingredients and a domestic active ingredient constitutes no less than 40 percent by weight of the total active ingredients, except from subheading 3808.99.
3808.91 | A change to subheading 3808.91 from any other subheading, except from vegetable saps or extracts of pyrethrum or of the roots of plants containing rotenone of subheading 1302.19 or from any insecticide classified in Chapter 28 or 29 or subheading 3808.50.
3808.92 | A change to subheading 3808.92 from any other subheading, except from fungicides classified in Chapter 28 or 29, or subheading 3808.50.
3808.93 | A change to subheading 3808.93 from any other subheading, except from herbicides, anti-sprouting products or plant-growth regulators classified in Chapter 28 or 29 or subheading 3808.50; or
| A change to a mixture of subheading 3808.93 from any other subheading, provided that the mixture is made from two or more active ingredients and a domestic active ingredient constitutes no less than 40 percent by weight of the total active ingredients.
3808.94 | A change to subheading 3808.94 from any other subheading, except from disinfectants of subheading 3808.50.
3808.99 | A change to subheading 3808.99 from any other subheading, except from rodenticides or other pesticides classified in Chapter 28 or 29; or
| A change to a mixture of subheading 3808.99 from any other subheading, provided that the mixture is made from two or more active ingredients and a domestic active ingredient constitutes no less than 40 percent by weight of the total active ingredients.
* * * * * * *
3824.71-3824.90 | A change to subheading 3824.71 from other chemical products or preparations of the chemical or allied industries (including those consisting of mixtures of natural products), not elsewhere specified or included, of subheading 3824.71 or from any other subheading, provided that no more than 60 percent by weight of the good classified in this subheading is attributable to one substance or compound; or
| A change to other chemical products or preparations of the chemical or allied industries (including those consisting of mixtures of natural products), not elsewhere specified or included of subheading 3824.71 from any other good of subheading 3824.71 or from any other subheading, except from other chemical products or preparations of the chemical or allied industries (including those consisting of mixtures of natural products), not elsewhere specified or included, of subheading 3824.73 through 3824.79, or 3824.90; or
| A change to subheading 3824.72 from any other subheading, provided that no more than 60 percent by weight of the good classified in this subheading is attributable to one substance or compound, except from other mixtures containing perhalogenated derivatives of acyclic hydrocarbons containing two or more different halogens of subheading 3824.73 through 3824.79; or
| A change to other mixtures of halogenated hydrocarbons of subheading 3824.73 from any other subheading, provided that no more than 60 percent by weight of the good classified in this subheading is attributable to one substance or compound, except from other chemical products or preparations of the chemical or allied industries (including those consisting of mixtures of natural products), not elsewhere specified or included, of subheading 3824.71, or 3824.74 through 3824.79, or 3824.90; or
| A change to other mixtures containing perhalogenated derivatives of acyclic hydrocarbons containing two or more different halogens of subheading 3824.73 from any other subheading, provided that no more than 60 percent by weight of the good classified in this subheading is attributable to one substance or compound, except from other mixtures containing perhalogenated derivatives of acyclic hydrocarbons containing two or more different halogens of subheading 3824.72, or 3824.74 through 3824.79; or
| A change to other mixtures of halogenated hydrocarbons of subheading 3824.74 from any other subheading, provided that no more than 60 percent by weight of the good classified in this subheading is attributable to one substance or compound, except from other chemical products or preparations of the chemical or allied industries (including those consisting of mixtures of natural products), not elsewhere specified or included, of subheading 3824.71, 3824.73, or 3824.75 through 3824.79, and except from subheading 3824.90; or
| A change to other mixtures containing perhalogenated derivatives of acyclic hydrocarbons containing two or more different halogens of subheading 3824.74 from any other subheading, provided that no more than 60 percent by weight of the good classified in this subheading is attributable to one substance or compound, except from other mixtures containing perhalogenated derivatives of acyclic hydrocarbons containing two or more different halogens of subheading 3824.72 through 3824.73 and subheading 3824.75 through 3824.79; or
| A change to subheading 3824.75 from any other subheading, provided that no more than 60 percent by weight of the good classified in this subheading is attributable to one substance or compound, except from other chemical products or preparations of the chemical or allied industries (including those consisting of mixtures of natural products), not elsewhere specified or included, of subheading 3824.71, 3824.73 through 3824.74, subheading 3824.76 through 3824.79, or 3824.90; or
| A change to subheading 3824.76 from any other subheading, provided that no more than 60 percent by weight of the good classified in this subheading is attributable to one substance or compound, except from other chemical products or preparations of the chemical or allied industries (including those consisting of mixtures of natural products), not elsewhere specified or included, of subheading 3824.71, 3824.73 through 3824.75, 3824.77 through 3824.79, or 3824.90; or
| A change to subheading 3824.77 from any other subheading, provided that no more than 60 percent by weight of the good classified in this subheading is attributable to one substance or compound, except from other chemical products or preparations of the chemical or allied industries (including those consisting of mixtures of natural products), not elsewhere specified or included, of subheading 3824.71, 3824.73 through 3824.76, 3824.78 through 3824.79, or 3824.90; or
| A change to subheading 3824.78 from any other subheading, provided that no more than 60 percent by weight of the good classified in this subheading is attributable to one substance or compound, except from other mixtures containing perhalogenated derivatives of acyclic hydrocarbons containing two or more different halogens of subheading 3824.72 through 3824.77 or 3824.79;
| A change to mixtures of halogenated hydrocarbons of subheading 3824.79 from any other subheading, provided that no more than 60 percent by weight of the good classified in this subheading is attributable to one substance or compound, except from other chemical products or preparations of the chemical or allied industries (including those consisting of mixtures of natural products), not elsewhere specified or included of subheading 3824.71, 3824.73 through 3824.78, and except from subheading 3824.90; or
| A change to other mixtures containing perhalogenated derivatives of acyclic hydrocarbons containing two or more different halogens of subheading 3824.79 from any other subheading, provided that no more than 60 percent by weight of the good classified in this subheading is attributable to one substance or compound, except from other mixtures containing perhalogenated derivatives of acyclic hydrocarbons containing two or more different halogens of subheading 3824.72 through 3824.78;
| A change to naphthenic acids, their water-insoluble salts or their esters of subheading 3824.90 from any other good of subheading 3824.90 or from any other subheading; or
| A change to any other good of subheading 3824.90 from naphthenic acids, their water-insoluble salts or their esters of subheading 3824.90 or from any other subheading, provided that no more than 60 percent by weight of the good classified in this subheading is attributable to one substance or compound, except from other chemical products or preparations of the chemical or allied industries (including those consisting of mixtures of natural products), not elsewhere specified or included, of subheading 3824.71, or 3824.73 through 3824.79; or
| A change to any other good of subheading 3824.71 through 3824.90 from any other subheading, including another subheading within that group, provided that no more than 60 percent by weight of the good classified in this subheading is attributable to one substance or compound.
* * * * * * *
3920.10-3921.90 | A change to other plates, sheets, film, foil or strip, of plastics, non-cellular and not reinforced, laminated, supported or similarly combined with other materials of cellulose or its chemical derivatives, of vulcanized fiber, of subheading 3920.79 from any other good of subheading 3920.79 or from any other subheading; or
| A change to any other good of subheading 3920.79 from plates, sheets, film, foil or strip, of plastics, non-cellular and not reinforced, laminated, supported or similarly combined with other materials of cellulose or its chemical derivatives, of vulcanized fiber, of subheading 3920.79 or from any other subheading; or
| A change to any other good of subheading 3920.10 through 3921.90 from any other subheading, including another subheading within that group.
* * * * * * *
4203-4206 | A change to articles of leather or of composition leather, of a kind used in machinery or mechanical appliances or for other technical uses of heading 4205 from any other good of heading 4205 or from any other heading; or
| A change to any other good of heading 4205 from articles of leather or of composition leather, of a kind used in machinery or mechanical appliances or for other technical uses of heading 4205 or from any other heading; or
| A change to any other good of heading 4203 through 4206 from any other heading, including another heading within that group.
* * * * * * *
4412 | A change to heading 4412 from any other heading, except from plywood of subheading 4418.71 through 4418.79; or
| A change to surface-covered plywood of heading 4412 from any other plywood that is not surface covered or is surface-covered only with a clear or transparent material which does not obscure the grain, texture, or markings of the face ply.
4413-4421 | A change to plywood of subheading 4418.71 through 4418.79 from any other good of heading 4418 or from any other heading, except from heading 4412; or
| A change to any other good of subheading 4418.71 through 4418.79 from plywood of subheading 4418.71 through 4418.79 or from any other heading; or
| A change to any other good of heading 4413 through 4421 from any other heading, including another heading within that group.
* * * * * * *
4601.21-4601.99 | A change to subheading 4601.21 through 4601.29 from any subheading outside that group; or
| A change to subheading 4601.92 through 4601.94 from any subheading outside that group; or
| A change to subheading 4601.99 from any other subheading.
* * * * * * *
4823.61-4823.70 | A change to subheading 4823.61 through 4823.69 from any subheading outside that group; or
| A change to any other good of subheading 4823.61 through 4823.70 from any other subheading, including another subheading within that group.
4823.90 | A change to floor coverings on a base of paper or of paperboard, whether or not cut to size, from any other good of subheading 4823.90 or from any other subheading; or
| A change to self-adhesive paper, in strips or rolls, from any other good of subheading 4823.90 or from any other subheading; or
| A change to other gummed or adhesive paper, in strips or rolls, from any other good of subheading 4823.90 or from any other subheading; or
| A change to cards not punched and for punchcard machines from any other chapter; or
| A change to any other good of subheading 4823.90 from floor covering on base paper or of paperboard, self-adhesive paper, other gummed or adhesive paper, or from cards not punched and for punchcard machines of subheading 4823.90, or from any other subheading.
* * * * * * *
6811.40 | A change to subheading 6811.40 from any other heading.
6811.81 | A change to subheading 6811.81 from any other heading.
6811.82 | A change to subheading 6811.82 from any other heading.
6811.83 | A change to subheading 6811.83 from any other heading.
6811.89 | A change to subheading 6811.89 from any other heading.
6812.80 | A change to clothing, clothing accessories, footwear or headgear of subheading 6812.80 or from any other good of subheading 6812.80 or from any other subheading, except from subheading 6812.91; or
| A change to paper, millboard or felt of subheading 6812.80 from any other subheading or from any other good of subheading 6812.80, except from compressed asbestos fiber jointing of subheading 6812.80 or from subheading 6812.92 through 6812.93; or
| A change to compressed asbestos fiber jointing, in sheets or rolls, of subheading 6812.80 from any other subheading or from any other good of subheading 6812.80, except from paper, millboard or felt of subheading 6812.80 or from subheading 6812.92 through 6812.93; or
| A change to other fabricated asbestos fibers, mixtures with a basis of asbestos and magnesium carbonate, or to articles of such mixtures or of asbestos, whether or not reinforced, other than goods of heading 6811 or 6813 from any other heading; or
| A change to yarn or thread of subheading 6812.80 from any other subheading including from any other good of subheading 6812.80; or
| A change to cords or string, whether or not plaited, of subheading 6812.80 from any other subheading or from any other good of subheading 6812.80, except from yarn or thread of subheading 6812.80; or
| A change to woven or knitted fabric of subheading 6812.80 from any other subheading including from any other good of subheading 6812.80.
6812.91 | A change to subheading 6812.91 from any other subheading, except from other clothing, clothing accessories or headgear of subheading 6812.80.
6812.92-6812.93 | A change to subheading 6812.92 through 6812.93 from any subheading outside that group, except from subheading 6812.80.
| A change to subheading 6812.99 from any other heading; or
6812.99 | A change to yarn or thread of subheading 6812.99 from any other subheading including from any other good of subheading 6812.99; or
| A change to cords or string, whether or not plaited of subheading 6812.99 from any other subheading or from any other good of subheading 6812.99, except from yarn or thread of subheading 6812.99; or
| A change to woven or knitted fabric of subheading 6812.99 from any other subheading including from any other good of subheading 6812.99.
* * * * * * *
7013-7018 | A change to heading 7013 through 7018 from any other heading, including another heading within that group; or
| A change from uncut and unpolished glassware blanks classified in heading 7013 to cut and polished glassware classified in heading 7013, provided that there has been a substantial amount of both cutting and polishing operations in a single country.
* * * * * * *
7020 | A change to glass inners for vacuum flasks or for other vacuum vessels of heading 7020 from any other good of heading 7020 or from any other heading; or
| A change to any other good of heading 7020 from any other heading, except from heading 7010 through 7018.
* * * * * * *
7321.11-7321.89 | A change to subheading 7321.11 through 7321.89 from any other heading; or
| A change to subheading 7321.11 through 7321.89 from subheading 7321.90, except when that change is pursuant to General Rule of Interpretation 2(a).
* * * * * * *
7411-7418 | A change to cooking or heating apparatus of a kind used for domestic purposes, non-electric and parts thereof, of copper, of subheading 7418.19 from any other good of subheading 7418.19 or from any other subheading; or
| A change to any other good of subheading 7418.19 from cooking or heating apparatus of a kind used for domestic purposes, non-electric and parts thereof, of copper, of subheading 7418.19 or from any other subheading; or
| A change to any other good of heading 7411 through 7418 from any other heading, including another heading within that group.
7419.10-7419.99 | A change to cloth, grill or netting of copper wire or to expanded metal of copper of subheading 7419.99 from any other good of subheading 7419.99 or from any other subheading; or
| A change to any other good of subheading 7419.99 from cloth, grill or netting of copper wire or expanded metal of copper of subheading 7419.99; or
| A change to copper springs of subheading 7419.99 from any other good of subheading 7419.99 or from any other subheading; or
| A change to any other good of subheading 7419.99 from copper springs of subheading 7419.99; or
| A change to any other good of subheading 7419.10 through 7419.99 from any other subheading, including another subheading within that group.
* * * * * * *
7801-7802 | A change to heading 7801 through 7802 from any other heading, including another heading within that group.
* * * * * * *
7806 | A change to any of the following goods classified in heading 7806 from materials also classified in heading 7806: tubes except from pipes; pipes except from tubes; tube or pipe fittings except from tubes or pipes; cables/stranded wire/plaited bands; or
| A change to lead bars, rods, profiles, or wire of heading 7806 from any other good of heading 7806 or from any other heading; or
| A change to any other good of heading 7806 from lead bars, rods, profiles, or wire of heading 7806 or from any other heading.
7901-7905 | A change to any of the following goods classified in heading 7901 through 7905, including from materials also classified in heading 7901 through 7905: Matte; unwrought; powder, except from flakes; flakes except from powder; bars except from rods or profiles; rods except from bars or profiles; profiles except from rods or bars; wire except from rod; plates except from sheets or strip; sheets except from plate or strip; strip except from sheets or plate; foil except from sheet or strip; or
| A change to any other good of heading 7901 through 7905 from any other heading, including another heading within that group.
7907 | A change to any of the following goods classified in heading 7907 from materials also classified in heading 7907: tubes except from pipes; pipes except from tubes; tube or pipe fittings except from tubes or pipes; or
| A change to tubes, pipes and tube or pipe fittings of heading 7907 from any other good of heading 7907; or
| A change to any other good of heading 7907 from tubes, pipes or tube or pipe fittings of heading 7907 or from any other heading.
* * * * * * *
8002-8003 | A change to any of the following goods classified in heading 8002 through 8003, from materials also classified in heading 8002 through 8003: Bars except from rods or profiles; rods except from bars or profiles; profiles except from rods or bars; wire except from rod; or
| A change to heading 8002 through 8003 from any other heading, including another heading within that group.
8007 | A change to any of the following goods classified in heading 8007 from other materials also classified in heading 8007: Tubes except from pipes; pipes except from tubes; tube or pipe fittings except from tubes or pipes; cables/stranded wire/ plaited bands; plates except from sheets or strip; sheets except from plate or strip; strip except from sheet or plate; or
| A change to any of the following goods classified in heading 8007 from other materials also classified in heading 8007: foil from powder or flakes; powder from foil; flakes from foil; or
| A change to foil, powder or flakes from any other good of heading 8007 or from any other heading; or
| A change to plates, sheet or strip from any other good of heading 8007 or from any other heading; or
| A change to any other good of heading 8007 from plates, sheet, strip, foil, powder or flakes of heading 8007 or from any other heading.
8101.10-8101.94 | A change to subheading 8101.10 through 8101.94 from any other subheading, including another subheading within that group; or
| A change to any of the following goods classified in subheading 8101.10 through 8101.94 from materials also classified in subheading 8101.10 through 8101.94: Matte; unwrought.
8101.96 | A change to subheading 8101.96 from any other subheading, except from bars and rods, other than those obtained by simple sintering, profiles, plates, sheets, strip or foil of subheading 8101.99.
8101.99 | A change to any of the following goods classified in subheading 8101.99, including from materials also classified in subheading 8101.99: Tubes except from pipes; pipes except from tube; tube or pipe fittings except from tubes or pipes; cables/stranded wire/ plaited bands; bars, other than those obtained simply by sintering, except from rods, other than those obtained simply by sintering, or profiles; rods, other than those obtained simply by sintering, except from bars, other than those obtained simply by sintering, or profiles; profiles except from rods or bars, other than those obtained simply by sintering; plates except from sheets or strip; sheets except from plate or strip; strip except from sheets or plate; foil except from sheet or strip; or
| A change to any other good of subheading 8101.99 from bars or rods, other than those obtained simply by sintering, profiles, plates, sheet, strip or foil or from any other subheading.
* * * * * * *
8103.20-8113.00 | A change to germanium of subheading 8112.92 through 8112.99 from any other good of subheading 8112.92 through 8112.99 or from any other subheading; or
| A change to vanadium of subheading 8112.92 through 8112.99 from any other good of subheading 8112.92 through 8112.99 or from any other subheading; or
| A change to any other good of subheading 8112.92 through 8112.99 from germanium or vanadium of subheading 8112.92 through 8112.99 or from any other subheading; or
| A change to any of the following goods classified in subheading 8103.20 through 8113.00, including from materials also classified in subheading 8103.20 through 8113.00: Matte; unwrought; powder except from flakes; flakes except from powder; bars except from rods or profiles; rods except from bars or profiles; profiles except from rods or bars; wire except from rod; plates except from sheets or strip; sheets except from plate or strip; strip except from sheets or plate; foil except from sheet or strip; tubes except from pipes; pipes except from tubes; tube or pipe fittings except from tubes or pipes; cables/stranded wire/plaited bands; or
| A change to any other good of subheading 8103.20 through 8113.00 from any other subheading, including another subheading within that group.
* * * * * * *
8418.10-8418.91 | A change to absorption-type electrical refrigerators of subheading 8418.29 from any other good of subheading 8418.29 or from any other subheading; or
| A change to any other good of subheading 8418.29 from absorption-type electrical refrigerators of subheading 8418.29 or from any other subheading; or
| A change to heat pumps of subheading 8418.61 from any other subheading, except from compression type units whose condensers are heat exchangers of subheading 8418.69; or
| A change to compression type units of subheading 8418.69 from any other subheading, except from heat pumps of subheading 8418.61 or from any other good of subheading 8418.69; or
| A change to other refrigerating or freezing equipment of subheading 8418.69 from any other subheading, except from heat pumps of subheading 8418.61; or
| A change to any other good of subheading 8418.69 from compression type units of subheading 8418.69 or from any other subheading; or
| A change to any other good of subheading 8418.10 through 8418.91 from any other subheading, including another subheading within that group.
* * * * * * *
8425.11-8430.69 | A change to pit-head winding gears or to winches specially designed for use underground of subheading 8425.31 through 8425.39 from any other good of subheading 8425.31 through 8425.39 or from any other subheading; or
| A change to any other good of subheading 8425.31 through 8425.39 from pit-head winding gears or to winches specially designed for use underground of subheading 8425.31 through 8425.39 or from any other subheading; or
| A change to mine wagon pushers, locomotive or wagon traversers, wagon tippers and similar railway wagon handling equipment of subheading 8428.90 from any other good of subheading 8428.90 or from any other subheading; or
| A change to any other good of subheading 8428.90 from mine wagon pushers, locomotive or wagon traversers, wagon tippers and similar railway wagon handling equipment of subheading 8428.90 or from any other subheading; or
| A change to any other good of subheading 8425.11 through 8430.69 from any other subheading, including another subheading within that group.
* * * * * * *
8442.30 | A change to subheading 8442.30 from any other subheading.
* * * * * * *
8443.11-8443.39 | A change to printing machinery of subheading 8443.11 through 8443.19 from any other subheading outside that group, except from machines for uses ancillary to printing of subheading 8443.91; or
| A change to printer units of ADP machines of subheading 8443.31 through 8443.32 from any other good of subheading 8443.31 through 8443.32 or from any other subheading, except from parts and accessories suitable for use solely or principally with the machines of subheading 8443.31 through 8443.32 of subheading 8443.99 when that change is the result of simple assembly, or from subheading 8504.90 or heading 8473, when that change is the result of simple assembly, and except from other units of ADP machines of subheading 8517.62 through 8517.69 or heading 8528, or from subheading 8471.60 through 8472.90; or
| A change to facsimile machines of subheading 8443.31 through 8443.32 from any other good of subheading 8443.31 through 8443.32 or from any other subheading, except from teleprinters of subheading 8443.32, or from subheading 8443.99 or 8517.70 when the change is the result of a simple assembly, or from subheading 8517.11 through 8517.69; or
| A change to teleprinters of subheading 8443.32 from any other good of subheading 8443.32 or from any other subheading, except from facsimile machines of subheading 8443.31 through 8443.32, and except from subheading 8443.99 or 8517.70 when the change is the result of a simple assembly , or from subheading 8517.11 through 8517.69; or
| A change to printing machines of subheading 8443.39 from any other subheading, except from subheading 8443.11 through 8443.39, or from machines for uses ancillary to printing of subheading 8443.91; or
| A change to electrostatic photocopying apparatus of subheading 8443.39 from any other good of subheading 8443.39 or from any other subheading; or
| A change to other photocopying apparatus of subheading 8443.39 from any other good of subheading 8443.39 or from any other subheading; or
| A change to thermo-copying apparatus of subheading 8443.39 from any other good of subheading 8443.39 or from any other subheading.
8443.91 | A change to machines for uses ancillary to printing from any other good of subheading 8443.91 or from any other subheading, except subheading 8443.11 through 8443.19; or
| A change to any other good from any other heading, except from heading 8501 when resulting from a simple assembly.
8443.99 | A change to accessory or auxiliary machines which are intended for attachment to an electrostatic photocopier and which do not operate independently of such photocopier from any other good of subheading 8443.99, provided that change is not the result of a simple assembly, or from any other subheading, except from subheading 8443.31 through 8443.32, 8471.60 through 8472.90, 8504.90 or from heading 8473 or from other units of ADP machines of subheading 8517.62 through 8517.69 or heading 8528 when that change is the result of a simple assembly; or
| A change to parts or accessories of printers of subheading 8443.31 or 8443.32 from any other heading except from heading 8414, 8501, 8504, 8534, 8541, or 8542 when resulting from a simple assembly, or from heading 8473 or subheading 8517.70; or
| A change to parts of facsimile machines from any other good of subheading 8443.99 or from any other subheading, except from parts for teleprinters, including teletypewriters, of subheading 8443.99 or from heading 8517; or
| A change to parts for teleprinters, including teletypewriters, from any other good of subheading 8443.99 or any other subheading, except from parts of facsimile machines of subheading 8443.99 or from heading 8517; or
| A change to parts or accessories of photocopying apparatus incorporating an optical system or of the contact type or to thermocopying apparatus from any other good of subheading 8443.99 or from any other subheading.
* * * * * * *
8456.10-8456.90 | A change to subheading 8456.10 through 8456.90 from any other heading, except from machine-tools for dry-etching patterns on semiconductor materials of subheading 8486.20.
* * * * * * *
8469.00 | A change to word-processing machines of heading 8469 from any other good of heading 8469 or from any other subheading, except from automatic typewriters of heading 8469; or
| A change to automatic typewriters of heading 8469 from any other good of heading 8469 or from any other subheading, except from word-processing machines of heading 8469; or
| A change to other electric typewriters of heading 8469 from any other good of heading 8469 or from any other subheading, except from other non-electric typewriters of heading 8469; or
| A change to other non-electric typewriters of heading 8469 from any other good of heading 8469 or from any other subheading, except from other electric typewriters of heading 8469.
8470.10-8471.50 | A change to accounting machines of subheading 8470.90 from any other good of subheading 8470.90, provided that the change is not the result of a simple assembly; or
| A change to any other good of subheading 8470.90 from accounting machines of subheading 8470.90, provided that the change is not the result of a simple assembly; or
| A change to analog or hybrid automatic data processing machines of subheading 8471.30 through 8471.50 from any other good of subheading 8471.30 through 8471.50, provided that the change is not the result of a simple assembly; or
| A change to any other good of subheading 8471.30 through 8471.50 from analog or hybrid automatic data processing machines of subheading 8471.30 through 8471.50, provided that the change is not the result of a simple assembly; or
| A change to subheading 8470.10 through 8471.50 from any subheading within that group or from heading 8473, provided that the change is not the result of a simple assembly; or
| A change to subheading 8470.10 through 8471.50 from any other subheading outside that group, except from heading 8473.
8471.60-8472.90 | A change to addressing machines or address plate embossing machines of subheading 8472.90 from any other good of subheading 8472.90, provided that the change is not the result of simple assembly; or
| A change to any other good of subheading 8472.90 from addressing machines and address plate embossing machines of subheading 8472.90, provided that the change is not the result of simple assembly; or
| A change to subheading 8471.60 through 8472.90 from any other subheading outside that group, except from subheading 8504.40 or from heading 8473; or
| A change to subheading 8471.60 through 8472.90 from any other subheading within that group or from subheading 8504.90 or from heading 8473, provided that the change is not the result of simple assembly.
* * * * * * *
8479.10-8479.89 | A change to subheading 8479.10 through 8479.89 from any other subheading, including another subheading within that group, except from subheading 8486.10 through 8486.40.
* * * * * * *
8486.10-8486.40 | A change to other machine-tools for working any material by removal of material, by electro-chemical, electron beam, ionic-beam or plasma arc process of subheading 8486.10 from any other good of subheading 8486.10 or from any other subheading, except from other machine-tools for working any material by removal of material, by electro-chemical, electron beam, ionic-beam or plasma arc process of subheading 8486.40, or from subheading 8456.90; or
| A change to sawing machines of subheading 8486.10 from any other good of subheading 8486.10 or from any other subheading, except from subheading 8464.10; or
| A change to steam or sand blasting machines and similar jet projecting machines of subheading 8486.20 from any other good of subheading 8486.20 or from any other subheading, except from steam or sand blasting machines and similar jet projecting machines of subheading 8424.30 or 8486.40; or
| A change to ion implanters designed for doping semiconductor materials of subheading 8486.20 from any other good of subheading 8486.20 or from any other subheading, except from ion implanters designed for doping semiconductor materials of subheading 8543.10; or
| A change to other machine tools for dry-etching patterns on semiconductor materials of subheading 8486.20 from any other good of subheading 8486.20 or from any other subheading, except from heading 8456; or
| A change to direct write-on-wafer apparatus of subheading 8486.20 from any other good of subheading 8486.20 or from any other subheading, except from step or repeat aligners or other apparatus for the projection or drawing of circuit patterns on sensitized semiconductor materials of subheading 8486.20 or from subheading 9010.50; or
| A change to step aligners of subheading 8486.20 from any other good of subheading 8486.20 or from any other subheading, except from direct write-on-wafer apparatus, repeat aligners, or other apparatus for the projection or drawing of circuit patterns on sensitized semiconductor materials of subheading 8486.20 or from subheading 9010.50; or
| A change to repeat aligners of subheading 8486.20 from any other good of subheading 8486.20 or from any other subheading, except from direct write-on-wafer apparatus, step aligners, or other apparatus for the projection or drawing of circuit patterns on sensitized semiconductor materials of subheading 8486.20 or from subheading 9010.50; or
| A change to other apparatus for the projection or drawing of circuit patterns on sensitized semiconductor materials of subheading 8486.20 from any other good of subheading 8486.20 or from any other subheading, except from direct write-on-wafer apparatus, step or repeat aligners of subheading 8486.20 or from subheading 9010.50; or
| A change to centrifuges of subheading 8486.10 through 8486.20 from any other good of subheading 8486.10 through 8486.20 or from any other subheading, except from subheading 8421.19; or
| A change to machine tools operated by laser or other light or photon beam process of subheading 8486.10 through 8486.20 from any other good of subheading 8486.10 through 8486.20 or from any other subheading, except from subheading 8456.10; or
| A change to grinding or polishing machines of subheading 8486.10 through 8486.20 from any other good of subheading 8486.10 through 8486.20 or from any other subheading, except from subheading 8464.20; or
| A change to other electrical machines or apparatus, having individual functions, of subheading 8486.10 through 8486.20 from any other good of subheading 8486.10 through 8486.20 or from any other subheading, except from other electrical machines or apparatus of subheading 8486.10 through 8486.20, 8486.90, 8543.70, 8542.31 through 8542.39, and except from proximity cards or tags of subheading 8523.52; or
| A change to other furnaces or ovens of subheading 8486.10 through 8486.20 from any other good of subheading 8486.10 through 8486.20 or from any other subheading, except from subheading 8514.30; or
| A change to other machine-tools for working stone, ceramics or like mineral materials or for cold working glass of subheading 8486.10 through 8486.30 from any other good of subheading 8486.10 through 8486.30 or from any other subheading, except from other machine-tools for working stone, ceramics or like mineral materials or for cold working glass of subheading 8486.10 through 8486.30, or from subheading 8464.90; or
| A change to other mechanical appliances for projecting, dispersing or spraying liquids or powders of subheading 8486.10 through 8486.30 from any other good of subheading 8486.10 through 8486.30 or from any other subheading, except from subheading 8424.89; or
| A change to steam or sand blasting machines or similar jet projecting machines of subheading 8486.40 from any other good of subheading 8486.40 or from any other subheading, except from steam or sand blasting machines and similar jet projecting machines of subheading 8424.30 or 8486.20; or
| A change to pneumatic elevators or conveyors of subheading 8486.40 from any other good of subheading 8486.40 or from other subheading, except from subheading 8428.20; or
| A change to other belt type continuous-action elevators or conveyors for goods or materials of subheading 8486.40 from any other good of subheading 8486.40 or from any other subheading, except from subheading 8428.33; or
| A change to other continuous-action elevators or conveyors for goods or materials of subheading 8486.40 from any other good of subheading 8486.40 or from any other subheading, except from subheading 8428.39; or
| A change to other lifting, handling, loading or unloading machinery of subheading 8486.40 from any other good of subheading 8486.40 or from any other subheading, except from subheading 8428.90; or
| A change to other machine-tools for working any material by removal of material, by electro-chemical, electron beam, ionic-beam or plasma arc process of subheading 8486.40 from any other good of subheading 8486.40 or from any other subheading, except from other machine-tools for working any material by removal of material, by electro-chemical, electron beam, ionic-beam or plasma arc process of subheading 8486.10, or from subheading 8456.90; or
| A change to numerically controlled bending, folding, straightening or flattening machines of subheading 8486.40 from any other good of subheading 8486.40 or from any other subheading, except from subheading 8462.21; or
| A change to other bending, folding, straightening or flattening machines of subheading 8486.40 from any other good of subheading 8486.40 or from any other subheading, except from subheading 8462.29; or
| A change to other machines for working hard materials of subheading 8486.40 from any other good of subheading 8486.40 or from any other subheading, except from subheading 8465.99; or
| A change to injection-molding machines of subheading 8486.40 from any other good of subheading 8486.40 or from any other subheading except from subheading 8477.10; or
| A change to vacuum molding machines or other thermoforming machines of subheading 8486.40 from any other good of subheading 8486.40 or from any other subheading, except from subheading 8477.40; or
| A change to other machinery for molding or otherwise forming of subheading 8486.40 from any other good of subheading 8486.40 or from any other subheading, except from subheading 8477.59; or
| A change to parts of welding machines or of electric machines and apparatus for hot spraying of metals or cermets of subheading 8486.40 from any other good of subheading 8486.40 or from any other subheading, except from subheading 8515.90; or
| A change to pattern generating apparatus designed to produce masks or reticles from photoresist coated substrates of subheading 8486.40 from any other good of subheading 8486.40 or from any other subheading, except from subheading 9017.20; or
| A change to die attach apparatus, tape automated bonders or wire bonders for assembly of semiconductors of subheading 8486.40 from any other good of subheading 8486.40 or from any other subheading, except from subheading 8515.11 through 8515.80; or
| A change to deflash machines for cleaning and removing contaminants from the metal leads of semiconductor packages prior to the electroplating process (deflash by chemical bath) of subheading 8486.40 from any other good of subheading 8486.40 or from any other subheading, except from subheading 8465.99; or
| A change to other machines or mechanical appliances of subheading 8486.10 through 8486.40 from any other good of subheading 8486.10 through 8486.40 or from any other subheading, except from other machines or mechanical appliances of subheading 8486.10 through 8486.40, 8479.89, 8508.11 through 8508.19 or 8508.60.
8486.90 | A change to parts or accessories of drawing, marking-out or mathematical calculating instruments or to instruments for measuring length, for use in the hand, of subheading 8486.90 from any other good of subheading 8486.90 or from any other subheading, except from heading 9017; or
| A change to parts or accessories of apparatus for the projection or drawing of circuit patterns on sensitized semiconductor materials or of other apparatus or equipment for photographic laboratories or negatoscopes of subheading 8486.90 from any other good of subheading 8486.90 or from any other subheading, except from heading 9010; or
| A change to parts of electrical machines or apparatus, having individual functions, of subheading 8486.90 from any other good of subheading 8486.90 or from any other subheading, except from heading 8543; or
| A change to parts of machinery for working rubber or plastics or for the manufacture of products from these materials of subheading 8486.90 from any other good of subheading 8486.90 or from any other subheading, except from other parts of machinery for working rubber or plastics or for the manufacture of products from these materials of subheading 8486.90, or from subheading 8477.90, and except from heading 8501 when resulting from a simple assembly; or
| A change to tool holders or to self-opening dieheads of subheading 8486.90 from any other good of subheading 8486.90 or from any other subheading, except from subheading 8466.10 through 8466.94, work holders, dividing heads or other special attachments of subheading 8486.90, and except from heading 8501 when resulting from simple assembly; or
| A change to work holders of subheading 8486.90 from any other good of subheading 8486.90, except from tool holders, dividing heads or other special attachments of subheading 8486.90, or from any other subheading, except from subheading 8466.10 through 8466.94, and except from heading 8501 when resulting from simple assembly; or
| A change to dividing heads or to other special attachments for machine tools of subheading 8486.90 from any other good of subheading 8486.90, except from tool holders or work holders of subheading 8486.90, or from any other subheading, except from subheading 8466.10 through 8466.94, and except from heading 8501 when resulting from simple assembly; or
| A change to parts or accessories for machine tools for working stone, ceramics, concrete, asbestos-cement or like minerals or for cold working glass of subheading 8486.90 from any other good of subheading 8486.90, except from parts or accessories of:
| • Machine-tools for working any material by the removal of material, by laser or other light or photon beam, ultrasonic, electro-discharge, electro-chemical, electron beam, ionic-beam or plasma arc processes, or
| • Machine-tools for drilling, boring, milling, threading or tapping by removing metal, or for deburring, sharpening, grinding, honing, lapping, polishing or otherwise finishing metal or cermets by means of grinding stones, abrasives or polishing products, or
| • Machine-tools for planing, shaping, slotting, broaching, gear cutting, gear grinding or gear finishing, sawing, cutting-off, or for working by removing metal or cermets, or
| • Machine-tools for working metal by bending, folding, straightening, flattening sheathing, punching or notching (including presses), or
| • Machine-tools for working metal or cermets, without removing material, or
| • Machine-tools for working wood, cork, bone, hard rubber, hard plastics or similar hard materials (including machines for nailing, stapling, gluing or otherwise assembling), or
| • Machine-tools for working metal by forging, hammering or die-stamping (including presses), or
| • Machining centers, unit construction machines (single station) or multi-station transfer machines for working metal, or
| • Lathes (including turning centers), for removing metal, or
| • Presses for metal or working metal carbides,
| of subheading 8486.90, or a change from any other subheading, except from subheading 8466.10 through 8466.94, and except from heading 8501 when resulting from simple assembly; or
| A change to parts or accessories of machine tools (including machines for nailing, stapling, gluing or otherwise assembling) for working wood, cork, bone, hard rubber, hard plastics or similar hard materials of subheading 8486.90 from any other good of subheading 8486.90, except from parts or accessories of:
| • Machine-tools for working any material by the removal of material, by laser or other light or photon beam, ultrasonic, electro-discharge, electro-chemical, electron beam, ionic-beam or plasma arc processes, or
| • Machine-tools for drilling, boring, milling, threading or tapping by removing metal, or
| • Machine-tools for deburring, sharpening, grinding, honing, lapping, polishing or otherwise finishing metal or cermets by means of grinding stones, abrasives or polishing products, or
| • Machine-tools for planing, shaping, slotting, broaching, gear cutting, gear grinding or gear finishing, sawing, cutting-off, or for working by removing metal or cermets, or
| • Machine-tools for working metal by forging, hammering or die-stamping (including presses), or
| • Machine-tools for working metal by bending, folding, straightening, flattening sheathing, punching or notching (including presses), or
| • Machine-tools for working metal or cermets, without removing material, or
| • Machine-tools for working stone, ceramics, concrete, asbestos-cement or like minerals or for cold working glass, or
| • Machining centers, unit construction machines (single station) or multi-station transfer machines for working metal, or
| • Lathes (including turning centers), for removing metal, or of presses for working metal or metal carbides,
| of subheading 8486.90, or a change from any other subheading, except from subheading 8466.10 through 8466.94, and except from heading 8501 when resulting from simple assembly; or
| A change to parts or accessories of machine-tools for working any material by the removal of material, by laser or other light or photon beam, ultrasonic, electro-discharge, electro-chemical, electron beam, ionic-beam or plasma arc processes, or for drilling, boring, milling, threading or tapping by removing metal, or for deburring, sharpening, grinding, honing, lapping, polishing or otherwise finishing metal or cermets by means of grinding stones, abrasives or polishing products, or for planing, shaping, slotting, broaching, gear cutting, gear grinding or gear finishing, sawing, cutting-off, or for working by removing metal or cermets, or to parts and accessories of machining centers, unit construction machines (single station) or multi-station transfer machines for working metal, or of lathes (including turning centers), for removing metal, of subheading 8486.90 from any other good of subheading 8486.90 except from parts or accessories of:
| • Machine-tools for working metal by forging, hammering or die-stamping, or
| • Machine-tools for working metal by bending, folding, straightening, flattening sheathing, punching or notching (including presses), or
| • Machine-tools for working metal or cermets, without removing material, or
| • Machine-tools for working stone, ceramics, concrete, asbestos-cement or like minerals or for cold working glass, or for working wood, cork, bone, hard rubber, hard plastics or similar hard materials (including machines for nailing, stapling, gluing or otherwise assembling), or
| • Presses for working metal or metal carbides,
| of subheading 8486.90, or a change from any other subheading, except from subheading 8466.10 through 8466.94, and except from heading 8501 when resulting from simple assembly; or
| A change to parts or accessories of machine tools (including presses) for working metal by forging, hammering or die-stamping, or for working metal by bending, folding, straightening, flattening sheathing, punching or notching (including presses), or for working metal or cermets, without removing material or to parts or accessories of presses for working metal carbide of subheading 8486.90 from any other good of subheading 8486.90, except from parts or accessories of:
| • Machine-tools for working any material by the removal of material, by laser or other light or photon beam, ultrasonic, electro-discharge, electro-chemical, electron beam, ionic-beam or plasma arc processes, or
| • Machine-tools for drilling, boring, milling, threading or tapping by removing metal, or
| • Machine-tools for deburring, sharpening, grinding, honing, lapping, polishing or otherwise finishing metal or cermets by means of grinding stones, abrasives or polishing products, or
| • Machine-tools for planing, shaping, slotting, broaching, gear cutting, gear grinding or gear finishing, sawing, cutting-off, or
| • Machine-tools for working by removing metal or cermets, or
| • Machine-tools for working stone, ceramics, concrete, asbestos-cement or like minerals or for cold working glass, or
| • Machine-tools for working wood, cork, bone, hard rubber, hard plastics or similar hard materials (including machines for nailing, stapling, gluing or otherwise assembling), or
| • Machining centers, unit construction machines (single station) or multi-station transfer machines for working metal, or
| • Lathes (including turning centers), for removing metal,
| of subheading 8486.90, or a change from any other subheading, except from subheading 8466.10 through 8466.94, and except from heading 8501 when resulting from simple assembly; or
| A change to parts suitable for use solely or principally with lifting, handling, loading or unloading machinery from any other good of subheading 8486.90 or from any other subheading, except from subheading 8431.39 and except from heading 8501 when resulting from simple assembly.
8487 | A change to heading 8487 from any other heading.
* * * * * * *
8505.11-8505.20 | A change to subheading 8505.11 through 8505.20 from any other subheading, including another subheading within that group.
8505.90 | A change to electro-magnetic lifting heads of subheading 8505.90 from any other subheading or from any other good of subheading 8505.90; or
| A change to any other good of subheading 8505.90 from any other heading.
* * * * * * *
8508.11-8508.60 | A change to subheading 8508.11 through 8508.60 from any other subheading, including another subheading within that group.
8508.70 | A change to subheading 8508.70 from any other heading, except from heading 8501 when resulting from simple assembly.
8509.40-8509.80 | A change to floor polishers or to kitchen waste disposers of subheading 8509.80 from any other good of subheading 8509.80 or from any other subheading; or
| A change to any other good of subheading 8509.80 from floor polishers or from kitchen waste disposers of subheading 8509.80 or from any other subheading; or
| A change to any other good of subheading 8509.40 through 8509.80 from any other subheading, including another subheading within that group.
* * * * * * *
8517.11-8517.69 | A change to subheading 8517.12 from any other subheading, except from other transceivers, other transmission apparatus or other transmission apparatus incorporating reception apparatus for radiotelephony or radiotelegraphy of subheading 8517.61 through 8517.69, or 8525.50 through 8525.60; or
| A change to other transmission apparatus for radiotelephony or radiotelegraphy or to other transmission apparatus incorporating reception apparatus for radiotelephony or radiotelegraphy of subheading 8517.61 through 8517.69 from any other good of subheading 8517.61 through 8517.69 or from any other subheading, except from subheading 8517.12, other transmission apparatus for radiotelephony or radiotelegraphy or from other transmission apparatus incorporating reception apparatus for radiotelephony or radiotelegraphy of subheading 8517.61 through 8517.69, or 8525.50 through 8525.60; or
| A change to other units of automatic data processing machines of subheading 8517.62 through 8517.69 from any other good of subheading 8517.62 through 8517.69 or from any other subheading, except from subheading 8504.90 or from heading 8473 or subheading 8517.70 when the change is the result of simple assembly; or
| A change to reception apparatus for radiotelephony or radiotelegraphy of subheading 8517.69 from any other good of subheading 8517.69 or from any other subheading, except from subheading 8527.99, or
| A change to any other good of subheading 8517.11 through 8517.69 from any other subheading outside that group, except from facsimile machines or teleprinters of subheading 8443.31 through 8443.32, and except from subheading 8443.99 or 8517.70 when that change is the result of simple assembly.
8517.70 | A change to parts or accessories of the machines of heading 8471 not incorporating a cathode ray tube from any other good of heading subheading 8517.70 or from any other subheading, except from heading 8414, 8501, 8504, 8534, 8541, or 8542 when resulting from a simple assembly, and except from heading 8473 or subheading 8443.99; or
| A change to antennas or antenna reflectors of a kind suitable for use with apparatus for radiotelephony or radiotelegraphy or to other parts suitable for use solely or principally with apparatus for radiotelephony or radiotelegraphy from any other good of subheading 8517.70 or from any other subheading, except from heading 8529; or
| A change to any other good of subheading 8517.70 from parts or accessories of the machines of heading 8471 not incorporating a cathode ray tube, or from antennas or antenna reflectors of a kind suitable for use with apparatus for radiotelephony or radiotelegraphy, or from other parts suitable for use solely or principally with the apparatus for radiotelephony or radiotelegraphy of subheading 8517.70, or from any other heading.
* * * * * * *
8519.20-8519.30 | A change to coin-or disc-operated record-players of subheading 8519.20 from any other subheading or from any other good of subheading 8519.20; or
| A change to turntables (record-decks) of subheading 8519.30 from any other subheading or from other turntables of subheading 8519.30; or
| A change to any other good of subheading 8519.20 through 8519.30 from any other subheading, including another subheading within that group.
8519.50 | A change to subheading 8519.50 from any other subheading.
8519.81 | A change to transcribing machines from any other subheading or from any other good of subheading 8519.81; or
| A change to pocket-size cassette-players from any other subheading or from any other goods of subheading 8519.81, except from other cassette-type sound reproducing apparatus; or
| A change to other cassette-type sound reproducing apparatus from any other subheading or from any other goods of subheading 8519.81, except from pocket-size cassette players; or
| A change to digital audio type magnetic tape recorders incorporating sound reproducing apparatus from any other subheading or from any other good of subheading 8519.81, except from other cassette-type magnetic tape recorders incorporating sound reproducing apparatus of subheading 8519.81; or
| A change to other cassette-type magnetic tape recorders incorporating sound reproducing apparatus from any other subheading or from any other good of subheading 8519.81, except from digital audio type magnetic tape recorders incorporating sound reproducing apparatus of subheading 8519.81; or
| A change to any other good of subheading 8519.81 from any other subheading or from any other good of subheading 8519.81.
8519.89 | A change to other sound reproducing apparatus from any other subheading or from any other good of subheading 8519.89, except from other sound reproducing apparatus of subheading 8519.89; or
| A change to any other good of subheading 8519.89 from any other good of subheading 8519.89 or from any other subheading.
* * * * * * *
8523 | A change to cards incorporating an electronic integrated circuit (“smart” cards) of subheading 8523.52 from any other subheading; or
| A change to proximity tags of subheading 8523.52 from any other subheading or from any other good of heading 8523, except from subheading 8543.70; or
| A change to prepared unrecorded media for sound recording or similar recording or other phenomena, other than products of chapter 37, from records, tapes and other recorded media for sound or other similarly recorded phenomena, excluding products of chapter 37, or from any other heading; or
| A change to records, tapes and other recorded media for sound or other similarly recorded phenomenon, excluding products of chapter 37, from prepared unrecorded media for sound recording or similar recoding or other phenomena, other than products of chapter 37.
8525.50-8525.60 | A change to subheading 8525.50 through 8525.60 from any other subheading outside that group, except from subheading 8517.12, and 8517.61 through 8517.69.
8525.80 | A change to subheading 8525.80 from any other subheading or from any other good of subheading 8525.80, except a change to video camera recorders from television cameras.
* * * * * * *
8527.19-8527.99 | A change to other radio broadcast receivers of subheading 8527.99 from any other good of subheading 8527.99 or from any other subheading; or
| A change to any other good of subheading 8527.99 from radio broadcast receivers of subheading 8527.99 or from any other subheading; or
| A change to any other good of subheading 8527.19 through 8527.99 from any other subheading, including another subheading within that group.
8528.41 | A change to display units from any other subheading, except from subheading 8471.60 or 8504.40, or from heading 8473 when the change is the result of a simple assembly.
8528.49 | A change to color video monitors from any other good of subheading 8528.49 or from any other subheading, except from subheading 8540.11 through 8540.12; or
| A change to black and white or other monochrome video monitors from any other good of subheading 8528.49 or from any other subheading, except from subheading 8540.11 through 8540.12.
8528.51 | A change to display units from any other subheading, except from subheading 8471.60 or 8504.40, or from heading 8473 when the change is the result of a simple assembly.
8528.59 | A change to color video monitors from any other good of subheading 8528.59 or from any other subheading, except from subheading 8540.11 through 8540.12; or
| A change to black and white or other monochrome video monitors from any other good of subheading 8528.59 or from any other subheading, except from subheading 8540.11 through 8540.12.
8528.61 | A change to display units from any other subheading, except from subheading 8471.60 or 8504.40, or from heading 8473 when the change is the result of a simple assembly.
8528.69-8528.73 | A change to subheading 8528.69 through 8528.73 from any other subheading, including another subheading within that group, except from subheading 8540.11 through 8540.12.
* * * * * * *
8536.10-8536.90 | A change to other articles of plastics of subheading 8536.70 from any other good of subheading 8536.70 or from any other subheading, except from heading 3926; or
| A change to ceramic ferrules, not exceeding 3 mm in diameter or 25 mm in length, having a fiber channel opening and/or ceramic mating sleeves of subheading 8536.70 from any other subheading, except from heading 6901 through 6914; or
| A change to any other good of subheading 8536.10 through 8536.90 from any other subheading, including another subheading within that group.
* * * * * * *
8541-8542 | A change to multichips of subheading 8542.31 through 8542.39 from any other good of subheading 8542.31 through 8542.39 or from any other subheading, except from subheading 8523.52 or 8543.70; or
| A change to a mounted chip, die or wafer classified in heading 8541 or 8542 from an unmounted chip, die, or wafer classified in heading 8541 or 8542; or
| A change to a programmed “read only memory” (ROM) chip from an unprogrammed “programmable read only memory” (PROM) chip; or
| A change to any other good of heading 8541 through 8542 from any other subheading, including another subheading within that group.
8543.10 | A change to subheading 8543.10 from any other subheading, except from ion implanters designed for doping semiconductor material of subheading 8486.20.
* * * * * * *
8543.70 | A change to subheading 8543.70 from any other subheading, except from proximity cards or tags of subheading 8523.52 and except from other machines or apparatus of subheading 8486.10 through 8486.20.
8543.90 | A change to subheading 8543.90 from any other heading, except from parts of subheading 8486.90.
8544.11-8544.70 | A change to subheading 8544.42 from any other good of subheading 8544.42, except when resulting from simple assembly; or
| A change to subheading 8544.49 from any other good of subheading 8544.49, except when resulting from simple assembly; or
| A change to subheading 8544.11 through 8544.70 from any other subheading, including another subheading within that group, except when resulting from simple assembly.
* * * * * * *
8708.29 | A change to subheading 8708.29 from any other subheading, except from subheading 8708.95.
8708.30 | A change to mounted brake linings and pads from any other heading, except from brake linings and pads of subheading 6813.20 or 6813.81; or
| A change to other brakes or servo-brakes or parts thereof from any other heading.
8708.40 | A change to parts for power trains of subheading 8708.40 from any other good of subheading 8708.40 or from any other subheading, except from parts or accessories of the goods of subheading 8708.50, 8708.80 through 8078.92, or 8708.94 through 8708.99; or
| A change to any other good of subheading 8708.40 from parts for power trains of subheading 8708.40, except when the change is pursuant to General Rule of Interpretation 2(a), or from any other subheading, except from parts or accessories of the goods of subheading 8708.50, 8708.80 through 8078.92, or 8708.94 through 8708.99, when the change is pursuant to General Rule of Interpretation 2(a).
8708.50 | A change to non-driving axles or parts thereof from any other good of subheading 8708.50 or from any other subheading; or
| A change to half-shafts or drive shafts or to other parts of tractors suitable for agricultural use, half-shafts or drive shafts or other parts of tractors (except road tractors), cast-iron parts, half-shafts or drive shafts, or to other parts for power trains from any other good of subheading 8708.50 or from any other subheading, except from parts or accessories of the goods of subheading 8708.40, 8708.80 through 8708.92, or 8708.94 through 8708.99; or
| A change to any other good of subheading 8708.50 from half-shafts or drive shafts or other parts of tractors suitable for agricultural use, half-shafts or drive shafts or other parts of tractors (except road tractors), cast-iron parts, half-shafts or drive shafts or from other parts for power trains of subheading 8708.50, except when the change is pursuant to General Rule of Interpretation 2(a), or from non-driving axles and parts thereof of subheading 8708.50, or from any other subheading, except from parts or accessories of subheading 8708.40, 8708.80 through 8708.92, or 8708.94 through 8708.99, when the change is pursuant to General Rule of Interpretation 2(a).
* * * * * * *
8708.80 | A change to parts for suspension systems for tractors suitable for agricultural use, parts for suspension systems for other tractors (except road tractors), parts of cast iron, or to other parts for suspension systems from any other good of subheading 8708.80 or from any other subheading, except from parts or accessories of the goods of subheading 8708.40, 8708.50, 8708.91, 8708.92, or 8708.94 through 8708.99; or
| A change to any other good of subheading 8708.80 from parts for suspension systems for tractors suitable for agricultural use, parts for suspension systems for other tractors (except road tractors), parts of cast iron, or from other parts for suspension systems, except when the change is pursuant to General Rule of Interpretation 2(a), or from any other subheading, except from parts or accessories of the goods of subheading 8708.40, 8708.50, 8708.91, 8708.92, or 8708.94 through 8708.99, when the change is pursuant to General Rule of Interpretation 2(a).
8708.91 | A change to parts of tractors suitable for agricultural use, parts of other tractors (except road tractors), parts of cast-iron or to parts or accessories from any other good of subheading 8708.91 or from any other subheading, except from other parts or accessories of subheading 8708.40, 8708.50, 8708.80, 8708.92, or 8708.94 through 8708.99; or
| A change to any other good of subheading 8708.91 from parts of tractors suitable for agricultural use, parts of other tractors (except road tractors), parts of cast-iron or from parts or accessories of the goods of subheading 8708.91, when that change is pursuant to General Rule of Interpretation 2(a), or from any other subheading, except from parts or accessories of the goods of subheading 8708.40, 8708.50, 8708.80, 8708.92, or 8708.94 through 8708.99, when the change is pursuant to General Rule of Interpretation 2(a).
8708.92 | A change to parts of tractors suitable for agricultural use, parts of other tractors (except road tractors), parts of cast-iron or to other parts or accessories from any other good of subheading 8708.92 or from any other subheading, except from parts or accessories of the goods of subheading 8708.40, 8708.50, 8708.80, 8708.91, or 8708.94 through 8708.99; or
| A change to any other good of subheading 8708.92 from parts of tractors suitable for agricultural use, parts of other tractors (except road tractors), parts of cast-iron or from other parts or accessories of subheading 8708.92 or from any other subheading.
* * * * * * *
8708.94 | A change to parts for steering systems of tractors suitable for agricultural use, parts for steering systems of other tractors (except road tractors), parts of cast-iron or to other parts for steering systems from any other good of subheading 8708.94 or from any other subheading, except from parts or accessories of the goods of subheading 8708.40, 8708.50, 8708.80, 8708.91, 8708.92, or 8708.95 through 8708.99; or
| A change to any other good of subheading 8708.94 from parts for steering systems of tractors suitable for agricultural use, parts for steering systems of other tractors (except road tractors), parts of cast-iron or from other parts for steering systems of subheading 8708.94, except when the change is pursuant to General Rule of Interpretation 2(a), or from any other subheading, except from parts or accessories of the goods of subheading 8708.40, 8708.50, 8708.80, 8708.91, 8708.92, or 8708.95 through 8708.99, when that change is pursuant to General Rule of Interpretation 2(a).
* * * * * * *
8708.95 | A change to inflators or modules for airbags from any other good of subheading 8708.95 or from any other subheading, except from subheading 8708.29; or
| A change to airbags or to other parts of tractors suitable for agricultural use, airbags or to other parts of other tractors (except road tractors), other airbags, or to other parts or accessories from inflators or modules for airbags of subheading 8708.95 or from any other subheading, except from parts or accessories of the goods of subheading 8708.40, 8708.50, 8708.80, 8708.91, 8708.92, 8708.94, or 8708.99.
8708.99 | A change to subheading 8708.99 from any other subheading, except from parts or accessories of the goods of subheading 8708.40, 8708.50, 8708.80, 8708.91, 8708.92, 8708.94, or 8708.95.
* * * * * * *
9006.10-9006.69 | A change to cameras of a kind used for recording documents on microfilm, microfiche or other microforms of subheading 9006.52 through 9006.59 from any other good of subheading 9006.52 through 9006.59 or from any other subheading; or
| A change to any other good of subheading 9006.52 through 9006.59 from cameras of a kind used for recording documents on microfilm, microfiche or other microforms of subheading 9006.52 through 9006.59 or from any other subheading; or
| A change to flashbulbs, flashcubes or the like of subheading 9006.69 from any other good of subheading 9006.69 or from any other subheading; or
| A change to any other good of subheading 9006.10 through 9006.69 from any other subheading, including another subheading within that group.
* * * * * * *
9010.50 | A change to subheading 9010.50 from any other subheading, except from apparatus for the projection or drawing of circuit patterns on sensitized semiconductor materials of subheading 8486.20.
* * * * * * *
9010.90 | A change to subheading 9010.90 from any other heading, except from parts of apparatus for the projection or drawing of circuit patterns on sensitized semiconductor materials of subheading 8486.90.
* * * * * * *
9027.10-9027.90 | A change to exposure meters of subheading 9027.50 from any other good of subheading 9027.50 or from any other subheading; or
| A change to any other good of subheading 9027.50 from exposure meters of subheading 9027.50; or
| A change to any other good of subheading 9027.10 through 9027.90 from any other subheading, including another subheading within that group.
* * * * * * *
9030.10 | A change to subheading 9030.10 from any other subheading.
9030.20 | A change to cathode ray tube oscilloscopes or oscillographs of subheading 9030.20 from non-cathode ray tube oscilloscopes or oscillographs of subheading 9030.20 or from any other subheading; or
| A change to non-cathode ray tube oscilloscopes or oscillographs of subheading 9030.20 from cathode ray tube oscilloscopes or oscillographs of subheading 9030.20 or from any other subheading, except from subheading 9030.32, 9030.82, 9030.84, 9030.89, or 9030.90.
9030.31 | A change to subheading 9030.31 from any other subheading.
9030.32 | A change to subheading 9030.32 from any other subheading, except from non-cathode ray tube oscilloscopes or oscillographs of subheading 9030.20, or from subheading 9030.82 or 9030.84.
9030.33 | A change to subheading 9030.33 from any other subheading, except from subheading 9030.39.
9030.39 | A change to subheading 9030.39 from any other subheading, except from non-cathode ray tube oscilloscopes or oscillographs of subheading 9030.20, or from subheading 9030.32, 9030.82, or 9030.84.
9030.40 | A change to subheading 9030.40 from any other subheading.
9030.82-9030.84 | A change to subheading 9030.82 through 9030.84 from any other subheading outside that group, except from other instruments or apparatus with a recording device of subheading 9030.20, 9030.32 or 9030.39.
9030.89 | A change to subheading 9030.89 from any other subheading, except from non-cathode ray tube oscilloscopes or oscillographs of subheading 9030.20 or from subheading 9030.90.
9030.90 | A change to subheading 9030.90 from any other subheading, except from non-cathode ray tube oscilloscopes or oscillographs of subheading 9030.20 or from subheading 9030.89.
9031.10-9031.20 | A change to subheading 9031.10 through 9031.20 from any other subheading, including another subheading within that group.
9031.41-9031.49 | A change to profile projectors of subheading 9031.49 from any other good of subheading 9030.49 or from any other subheading; or
| A change to any other good of subheading 9031.49 from a profile projector of subheading 9031.49 or from any other subheading, except from subheading 9031.41; or
| A change to any other good of subheading 9030.41 through 9030.49 from any other subheading outside that group.
* * * * * * *
9201-9208 | A change to keyboard pipe organs, harmoniums or other similar keyboard instruments with free metal reeds of subheading 9205.90 from any other good of subheading 9205.90 or from any other subheading, except from heading 9209 when that change is pursuant to General Rule of Interpretation 2(a); or
| A change to accordions and similar instruments, or mouth organs of subheading 9205.90 from any other good of subheading 9205.90 or from any other subheading, except from heading 9209 when that change is pursuant to General Rule of Interpretation 2(a); or
| A change to any other good of subheading 9205.90 from keyboard pipe organs, harmoniums and other similar keyboard instruments with free metal reeds, accordions and similar instruments, or mouth organs of subheading 9205.90 or from any other subheading, except from heading 9209 when that change is pursuant to General Rule of Interpretation 2(a); or
| A change to any other good of heading 9201 through 9208 from any other heading, including another heading within that group, except from heading 9209 when that change is pursuant to General Rule of Interpretation 2(a).
* * * * * * *
9401.10-9401.80 | A change to subheading 9401.51 through 9401.59 from any subheading outside that group, except from subheading 9401.10 through 9401.80, subheading 9403.10 through 9403.89, and except from subheading 9401.90 or 9403.90 when that change is pursuant to General Rule of Interpretation 2(a); or
| A change to subheading 9401.10 through 9401.80 from any other subheading outside that group, except from subheading 9403.10 through 9403.89, and except from subheading 9401.90 or 9403.90, when that change is pursuant to General Rule of Interpretation 2(a).
* * * * * * *
9402 | A change to heading 9402 from any other heading, except from heading 9401.10 through 9401.80 or subheading 9403.10 through 9403.89, and except from subheading 9401.90 or 9403.90 when that change is pursuant to General Rule of Interpretation 2(a).
9403.10-9403.89 | A change to subheading 9403.10 through 9403.89 from any other subheading outside that group, except from subheading 9401.10 through 9403.89, and except from subheading 9401.90 or 9403.90, when that change is pursuant to General Rule of Interpretation 2(a).
* * * * * * *
9503 | A change to wheeled toys designed to ridden by children or to dolls' carriages or dolls' strollers, parts or accessories thereof from any other chapter, except from heading 8714 when that change is pursuant to General Rule of Interpretation 2(a); or
| A change to dolls, whether or not dressed, from any other subheading or from any other good of heading 9503, except from skins for stuffed dolls of heading 9503; or
| A change to parts or accessories of dolls representing only human beings from any other heading or from any other good of heading 9503, except from toys representing animals or non-human creatures of heading 9503; or
| A change to electric trains, including tracks, signals and other accessories or parts thereof from any other good of heading 9503 or from any other subheading; or
| A change to reduced-size (“scale”) model assembly kits, (excluding electric trains) or to parts or accessories thereof, from any other good of heading 9503 or from any other subheading; or
| A change to other construction sets and constructional toys or to parts or accessories thereof from any other good of heading 9503 or from any other subheading; or
| A change to toys representing animals or non-human creatures or to parts or accessories thereof from wheeled toys designed to be ridden by children, dolls' carriages, or dolls representing only human beings of heading 9503 or from any other heading; or
| A change to toys representing animals or non-human creatures from parts or accessories of toys representing animals or non-human creatures of heading 9503; or
| A change to parts or accessories of toys representing animals or non-human creatures from wheeled toys designed to be ridden by children, dolls' carriages, or dolls' strollers of heading 9503 or from any other heading, except from heading 6111 or 6209; or
| A change to toy musical instruments and apparatus from any other good of heading 9503 or from any other subheading; or
| A change to puzzles from any other good of heading 9503 or from any other subheading; or
| A change to other toys, put up in sets or outfits, or to other toys and models, incorporating a motor, or to other toys from any other chapter.
* * * * * * *
9507.90 | A change to subheading 9507.90 from any other subheading, except from heading 5004 through 5006, 5404, 5406, or 5603, or from subheading 5402.11 through 5402.49.
* * * * * * *
9614.00 | A change to pipes or pipe bowls from any other subheading, except to roughly shaped blocks of wood or root from heading 4407; or
| A change to articles other than pipes or pipe bowls from any other heading.

* * * * *

3. In § 102.21:

a. Paragraphs (a), (b), (c), and (d) are amended by removing the word “shall” each place it appears and adding, in its place, the word “will”;

b. Paragraph (b)(5) is amended by removing the references to “6503” and “9502.91”;

c. The table in paragraph (e) is amended by removing the entries for: “6209. 10.0000-6209.20.5035”, “6503”, and “9502.91”;

d. The table in paragraph (e) is further amended by adding, in numerical order, entries for: “6209.20.1000-6209.20.5035”, and “9503.00.0080”;

e. The table is further amended by revising the entries in the “Tariff shift and/or other requirements” column adjacent to the “HTSUS” column listing for: “6209.20.1000-6209.20.5035”, “6505.90”, and “9503.00.0080”.

The additions read as follows:

§ 102.21 Textile and apparel products.

* * * * *

HTSUS | Tariff shift and/or other requirements
* * * * * * *
6209.20.1000 6209.20.5035 | (1) If the good consists of two or more component parts, a change to an assembled good of subheading 6209.20.1000 through 6209.20.5035 from unassembled components, provided that the change is the result of the good being wholly assembled in a single country, territory, or insular possession.
| (2) If the good does not consist of two or more component parts, a change to subheading 6209.20.1000 from any other heading, except from heading 5007, 5111 through 5113, 5208 through 5212, 5309 through 5311, 5407 through 5408, 5512 through 5516, 5602 through 5603, 5801 through 5806, 5809 through 5811, 5903, 5906 through 5907, and 6217, and subheading 6307.90, and provided that the change is the result of a fabric-making process.
* * * * * * *
6505.90 | (1) For felt hats and other felt headgear, made from the hat bodies, hoods or plateaux of heading 6501, whether or not lined or trimmed, if the good consists of two or more components, a change to subheading 6505.90 from any other good of subheading 6505.90 or from any other subheading, provided that the change is the result of the good being wholly assembled in a single country, territory, or insular possession.
| (2) For felt hats and other felt headgear, made from the hat bodies, hoods or plateaux of heading 6501, whether or not lined or trimmed, if the good does not consist of two or more components, a change to subheading 6505.90 from any other subheading, except from heading 5602, and provided that the change is the result of a fabric-making process.
| (3) For any other good, if the good consists of two or more components, a change to subheading 6505.90 from any other heading, provided that the change is the result of the good being wholly assembled in a single country, territory, or insular possession.
| (4) For any other good, if the good does not consist of two or more components, a change to subheading 6505.90 from any other heading, except from heading 5007, 5111 through 5113, 5208 through 5212, 5407 through 5408, 5512 through 5516, 5602 through 5603, 5609, 5801 through 5804, 5806, 5808 through 5811, 5903, 5906 through 5907, and 6001 through 6006, and provided that the change is the result of a fabric-making process.
* * * * * * *
9503.00.0080 | For garments and accessories thereof, footwear or headgear of dolls representing only human beings, a change to an assembled good from unassembled components, provided that the change is the result of the good being wholly assembled in a single country, territory, or insular possession.

* * * * *

Dated: October 23, 2008.
Jayson P. Ahern,
Acting Commissioner, U.S. Customs and Border Protection.

[FR Doc. E8-25734 Filed 10-29-08; 8:45 am]

BILLING CODE 9111-14-P